DEPARTMENT OF AGRICULTURE

Forest Service

DEPARTMENT OF THE INTERIOR

Bureau of Indian Affairs

Bureau of Land Management

Fish and Wildlife Service

National Park Service

Urban Wildland Interface Communities Within the Vicinity of Federal Lands That Are at High Risk From Wildfire

AGENCIES: Forest Service, USDA; Bureau of Indian Affairs, Bureau of Land Management, Fish and Wildlife Service, and National Park Service, USDI.

ACTION: Notice.

SUMMARY: This notice provides an initial list of urban wildland interface communities in the vicinity of Federal lands that are at high risk from wildfire. The list, compiled from information provided by States and Tribes, and prepared for publication by the Secretaries of Agriculture and the Interior, responds to Congressional direction to identify communities within the vicinity of Federal lands that are at high risk from wildfire, and publish a list of these communities in the Federal Register. States and Tribes used different criteria for selecting communities at risk. This initial list of communities is incomplete, and will be updated as additional information from the States and Tribes becomes available. The information included in the list has not been altered by the Federal agencies.

Pursuant to direction from Congress, the lists submitted by States and Tribes have been annotated by the Secretaries to identify communities around which hazardous fuel reduction treatments on Federal lands are ongoing or are planned to begin in fiscal year 2001. The Secretaries will continue to work with States, Tribes, local governments, and other interested parties to focus fuel reduction efforts on those communities at highest risk.

This notice also provides the Federal Government's initial definition of urban wildland interface communities at high risk from wildfire, and preliminary criteria for risk evaluation and risk management that will be used by the Secretaries to rank and prioritize communities and focus implementation of fuels treatments to most effectively reduce risks. Interested members of the public may also provide additional thoughts on the list of communities, the initial definition of wildland-urban interface areas, and the preliminary criteria for risk evaluation and risk management included in this notice via the National Interagency Fire Center web page at http://www.nifc.gov. As a result of these suggestions, the Federal agencies will work with Tribes, States, local governments, and other interested parties to refine and narrow the initial list of communities provided in this notice, focusing on those that are at highest risk.

ADDRESSES: Paper copies of this list and related materials may be obtained by writing to: Bureau of Land Management, Office of External Affairs, National Interagency Fire Center, 3833 S. Development Avenue, Boise, Idaho 83705-5354.

FOR FURTHER INFORMATION CONTACT: Steve Bott, Fire Management Program Center, National Park Service, USDI, 3833 S. Development Avenue, Boise, Idaho 83705-5354; (208) 387-5200 (e-mail: stephen_botti@nps.gov). Information specific to individual State listings should be directed to the respective State Forester as listed with the National Association of State Foresters (NASF), 444 N. Capitol St., NW., Suite 540, Washington, DC 20001, or electronically from the NASF World Wide Web/Internet home page at http://www.Stateforesters.org/SFlist.html.

SUPPLEMENTAL INFORMATION:

Background

During the 2000 fire season more than 6.8 million acres of public and private lands burned, resulting in loss of property, damage to resources, and disruption of community services. Many of these fires burned in urban wildland interface areas and exceeded the fire suppression capabilities of those areas. The magnitude of these fires is the result of two primary factors: (1) Severe drought, accompanied by a series of storms that produced thousands of lightning strikes followed by windy conditions; and (2) the long-term effects of almost a century of suppressing wildfires that has led to an unnatural buildup of brush and small diameter trees in the nation's forests and rangelands.

Loss of structures due to wildland fires has been attributed to many factors, one of which is the proximity of hazardous fuels to homes and communities. During periods of hot, dry weather, the buildup of vegetation that has occurred on some Federal, State, and private lands in the vicinity of communities poses a potentially high risk of damage to homes and other structures, disruption to the local economy, or loss of life.

On August 8, 2000, the President directed the Secretaries of Agriculture and the Interior to prepare a report recommending how best to respond to this year's severe fires, reduce the impacts of those fires on rural communities, and ensure sufficient fire management resources in the future. On September 8, 2000, the President accepted their report, Managing the Impacts of Wildfires on Communities and the Environment, which provides an overall framework for fire management and forest health programs. The report calls for Federal agencies to increase investments in projects to reduce fire risk and to work with local communities to reduce fire hazards close to homes and communities.

Other factors—including weather conditions and patterns, and the hazardous fuels conditions in the immediate vicinity of homes, businesses, and other structures—play important roles in the spread of wildland fire. Reducing hazardous fuel near communities may reduce, but not eliminate, wildlife risks to these communities. Some risk is inherent to communities that exist in fire-dependent ecosystems. Private landowners may help reduce this risk by creating defensible space around their homes and businesses, and by using fire-resistant materials in building those structures. Without such precautionary measures, fuel reduction on Federal land in the vicinity may be ineffective in significantly reducing community risk.

The Federal land management agencies are currently in the process of forming partnerships with the States, Tribes, and local governments to plan fuels reduction treatments targeted to the urban wildland interface in the vicinity of Federal lands. These partnerships are indicative of a shared responsibility to reduce wildland fire risks to communities in the interface. Successful implementation of this fuels reduction program will require commitments from all the partners involved in this effort.

Congressional Direction and Purpose of Federal Register Notice

As directed by Title IV of the FY 2001 Appropriations Act for the Department of the Interior and Related Agencies (Public Law 106-291), the Secretaries of Agriculture and the Interior have consulted with States and Tribes about the development of a list of urban wildland interface communities within the vicinity of Federal lands, including Indian trust and restricted lands, that are at high-risk from wildfire. This initial list of communities was developed by States and Tribes, each using criteria it determined appropriate for selecting communities at risk. The list is incomplete. It will be updated as additional information from the States and Tribes becomes available. The information provided has not been altered by the Federal Agencies. The lists submitted by States and Tribes have been annotated by the Secretaries to identify communities around which hazardous fuel reduction treatments on Federal lands are ongoing or are planned to begin in fiscal year 2001. The list of communities around which treatments are planned may also be updated as the agencies further assess treatment priorities for FY 2001. Some communities may be removed from the list if further assessment and discussion among the States, Tribes and local agencies indicate it is appropriate to do so. Future updates of this list will be made available electronically from the National Interagency Fire Center World Wide Web/Internet home page at http://www.nifc.gov. The list is set out at the end of this notice.

This notice also provides an initial definition of urban wildland interface communities at high risk from wildfire, and the preliminary criteria for risk evaluation and risk management that will initially be used to focus hazardous fuel reduction efforts. This definition and these criteria were developed cooperatively by the Federal agencies, Tribes, and States, and may be modified through further consultation with Tribes, States, local governments, and other interested parties.

Urban Wildland Interface Community Definition

The initial definition of urban wildland interface and the descriptive categories used in this notice are modified from “A Report to the Council of Western State Foresters—Fire in the West—The Wildland/Urban Interface Fire Problem” dated September 18, 2000. Under this definition, “the urban wildland interface community exists where humans and their development meet or intermix with wildland fuel.” There are three categories of communities that meet this description. Generally, the Federal agencies will focus on communities that are described under categories 1 and 2. For purposes of applying these categories and the subsequent criteria for evaluating risk to individual communities, a structure is understood to be either a residence or a business facility, including Federal, State, and local government facilities. Structures do not include small improvements such as fences and wildlife watering devices.

Category 1. Interface Community

The Interface Community exists where structures directly abut wildland fuels. There is a clear line of demarcation between residential, business, and public structures and wildland fuels. Wildland fuels do not generally continue into the developed area. The development density for an interface community is usually 3 or more structures per acre, with shared municipal services. Fire protection is generally provided by a local government fire department with the responsibility to protect the structure from both an interior fire and an advancing wildland fire. An alternative definition of the interface community emphasizes a population density of 250 or more people per square mile.

Category 2. Intermix Community

The Intermix Community exists where structures are scattered throughout a wildland area. There is no clear line of demarcation; wildland fuels are continuous outside of and within the developed area. The development density in the intermix ranges from structures very close together to one structure per 40 acres. Fire protection districts funded by various taxing authorities normally provide life and property fire protection and may also have wildland fire protection responsibilities. An alternative definition of intermix community emphasizes a population density of between 28-250 people per square mile.

Category 3. Occluded Community

The Occluded Community generally exists in a situation, often within a city, where structures abut an island of wildland fuels (e.g., park or open space). There is a clear line of demarcation between structures and wildland fuels. The development density for an occluded community is usually similar to those found in the interface community, but the occluded area is usually less than 1,000 acres in size. Fire protection is normally provided by local government fire departments.

Preliminary Criteria for Evaluating Risk to Communities

The Secretaries are required to publish in the Federal Register, by May 1, 2001, a second list of urban wildland interface communities within the vicinity of Federal lands that are at high risk from wildfire in which treatments will not have begun during 2001. The Federal agencies will work with Tribes, States, local governments, and other interested parties to refine and narrow the initial list of communities provided in this notice, focusing on those that are at highest risk, as determined through the application of appropriate criteria. In discussions with States, Tribes, local governments, and other interested parties, the Secretaries will suggest using the specific factors listed below, as modified through further discussion with and input from interested parties, in evaluating risk to communities. Similar risk factors will be included in interim guidance to the agencies' field units that will be required to implement urban wildland treatment projects during FY 2001.

Risk Factor 1: Fire Behavior Potential

Situation 1: In these communities, continuous fuels are in close proximity to structures. The composition of surrounding fuels is conducive to crown fires or high intensity surface fires. There are steep slopes, predominantly south aspects, dense fuels, heavy duff, prevailing wind exposure and/or ladder fuels that reduce fire fighting effectiveness. There is a history of large fires and/or high fire occurrence.

Situation 2: In these communities, there are moderate slopes, broken moderate fuels, and some ladder fuels. The composition of surrounding fuels is conducive to torching and spotting. These conditions may lead to moderate fire fighting effectiveness. There is a history of some large fires and/or moderate fire occurrence.

Situation 3: In these communities, grass and/or sparse fuels surround structures. There is infrequent wind exposure, flat terrain with little slope and/or predominantly a north aspect. There is no large fire history and/or low fire occurrence. Fire fighting generally is highly effective.

Risk Factor 2: Values At Risk

Situation 1: This situation most closely represents a community in an urban interface setting. The setting contains a high density of homes, businesses, and other facilities that continue across the interface. There is a lack of defensible space where personnel can safely work to provide protection. The community watershed for municipal water is at high risk of being burned compared to other watersheds within that geographic region. There is a high potential for economic loss to the community and likely loss of housing units and/or businesses. There are unique cultural, historical or natural heritage values at risk.

Situation 2: This situation represents an intermix or occluded setting, with scattered areas of high-density homes, summer homes, youth camps, or campgrounds that are less than a mile apart. This situation would cover the presence of lands at risk that are described under State designations such as impaired watersheds, or scenic byways. There is a risk of erosion or flooding in the community if vegetation burns.

Risk Factor 3: Infrastructure

Situation 1: In these communities, there are narrow dead end roads, steep grades, one way in and/or out routes, no or minimal fire fighting capacity, no fire hydrants, no surface water, no pressure water systems, no emergency operations group, and no evacuation plan in an area surrounded by a fire-conducive landscape.

Situation 2: In these communities, there are limited access routes, moderate grades, limited water supply, and limited fire fighting capability in an area surrounded by scattered fire-conducive landscape.

Situation 3: In these communities, there are multiple entrances and exits that are well equipped for fire trucks, wide loop roads, fire hydrants, open water sources (pools, creeks, lakes), an active emergency operations group, and an evacuation plan in place in an area surrounded by a fireproof landscape.

The Secretaries will work collaboratively with States, Tribes, local communities, and other interested parties to develop a ranking process to focus fuel reduction activities by identifying communities most at risk. Public input is welcome on the form a ranking system should take, as is input on measures that may be useful to assess the impacts of fuels treatment projects.

Preliminary Criteria for Project Selection

After the Federal agencies consult with States, Tribes, local leaders, and other interested parties on the risk to communities, the Secretaries will work collaboratively with those entities to identify and prioritize specific treatment projects. Projects will be focused on Federal land in the urban wildland interface, and may be extended to non-Federal land that falls in close proximity. All projects will be subject to review for conformance with applicable laws, as addressed in the report to Congress that responds to section 5(B) of title IV of the report accompanying the FY 2001 Interior and Related Agencies Appropriations Act. The agencies expect the preliminary criteria for risk evaluation identified above, modified as appropriate in consultation with interested parties, to be helpful in project selection. Among other factors that may be considered in project selection is the contribution the project will make toward establishing an adequate buffer around, or defensible space for, a community at risk. By this criterion, priority would be given to projects that are adjacent to combustible structures within the interface communities. Another factor will be the degree to which the community actively supports and invests in hazardous fuel reduction activities and programs.

Support would be demonstrated by a combination of: developing partnerships with adjacent Federal agencies, States, and Tribes; sharing costs for hazardous fuels reduction and fire prevention activities; enhancing a fire-safe environment through enforcement of fire-related laws, regulations and ordinances; applying appropriate community planning practices; and participating in the organization of and support for fire safety and related environmental education.

Dated: December 27, 2000.
For the Department of Agriculture.
Dan Glickman,
Secretary of Agriculture.
Dated: December 22, 2000.
For the Department of the Interior.
Bruce Babbitt,
Secretary of the Interior.

Urban-Wildland Interface Communities in the Vicinity of Federal Lands That Are at High Risk From Wildfire

State Responses of the Urban Wildland Interface Communities
State | Response
Alaska | Community list provided.
Alabama | Community list provided.
Arkansas | List unavailable at this time.
Arizona | Community list provided.
California | Community list provided.
Colorado | Community list provided.
Connecticut | No high-risk communities adjacent to Federal lands.
District of Columbia | No response.
Delaware | No high-risk communities adjacent to Federal lands.
Florida | Community list provided.
Georgia | No response.
Guam | No response.
Hawaii | No response.
Iowa | Community list provided.
Idaho | Community list provided.
Illinois | No response.
Indiana | Community list provided.
Kansas | Community list provided.
Kentucky | List unavailable at this time.
Louisiana | No response.
Massachusetts | Response provided by Tribe(s), but not the State.
Maryland | Community list provided.
Maine | Community list provided.
Michigan | Community list provided.
Minnesota | Community list provided.
Missouri | No response.
Mississippi | Community list provided.
Montana | Community list provided.
North Carolina | Response provided by Tribe(s), but not the State.
North Dakota | Community list provided.
Nebraska | Community list provided.
New Hampshire | Community list provided.
New Jersey | Community list provided.
New Mexico | Community list provided.
Nevada | Community list provided.
New York | No high-risk communities adjacent to Federal lands.
Ohio | No high-risk communities were identified by the State.
Oklahoma | Community list provided.
Oregon | Community list provided.
Pennsylvania | Community list provided.
Puerto Rico | No response.
Rhode Island | No high-risk communities adjacent to Federal lands.
South Carolina | Response provided by Tribe(s). State list currently unavailable.
South Dakota | Community list provided.
Tennessee | List unavailable at this time.
Texas | Community list provided.
Utah | Community list provided.
Virginia | Community list provided.
Virgin Islands | No response.
Vermont | Community list provided.
Washington | Community list provided.
Wisconsin | Community list provided.
West Virginia | Community list provided.
Wyoming | Community list provided.

Urban Wildland Community List

Listed alphabetically by State and Community.

Note, those communities where projects are ongoing or proposed are footnoted as:

¹ Ongoing fuels treatment project in Fiscal Year 2001.

² Proposed fuels treatment project for Fiscal Year 2001.

Alaska

Alcan, AK

Allakaket, AK

Anchor Point, AK

Anchorage, AK

Big Delta, AK

Big Lake, AK

Butte, AK

Clam Gulch, AK

College, AK

Cooper Landing, AK

Delta Junction, AK

Eagle River, AK

Fairbanks, AK

Fox River, AK

Fritz Creek, AK

Ft. Greely, AK

Funny River, AK

Happy Valley, AK

Homer, AK

Houston, AK

Kalifonsky, AK

Kasilof, AK

Kenai, AK

Lazy Mountain, AK

Lime Village, AK

McGrath, AK

Meadow Lakes, AK

Moose Creek, AK

Nikiski, AK

Ninilchik, AK

North Pole, AK

Northway, AK

Northway Junction, AK

Nulato, AK

Salamatof, AK

Soldotna, AK

Tanacross, AK

Tok, AK

Alabama

Addison, AL

Andalusia, AL

Anniston, AL

Ashland, AL

Atmore, AL

Baldon Springs, AL

Blanche, AL

Bon Secour, AL

Borden Springs, AL

Bradley, AL

Brent, AL

Bridgeport, AL

Centerville, AL

Chandler Springs, AL

Cheaha Mountain, AL

Cherokee, AL

Childresburg, AL

Choccolocco, AL

Coffeeville, AL

Curry, AL

Daleville, AL

Decatur, AL

Delta, AL

Dixie, AL ¹

Double Springs, AL

Duncanville, AL

Edwardsville, AL

Enterprise, AL

Eoline, AL

Eufaula, AL

Fort Mitchell, AL

Fort Morgan, AL

Fort Payne, AL

Freemanville, AL

Gulf Shores, AL

Haleyville, AL

Hartselle, AL

Heflin, AL

Heilberger, AL

Hollis, AL

Hollis Crossroads, AL

Huntsville, AL

Jacksonville, AL

Lawley, AL

Lineville, AL

Madison, AL

Maplesville, AL

Millerville, AL

Mooresville, AL

Moulton, AL

Munford, AL

Natural Bridge, AL

Nauvoo, AL

Newton, AL

Oak Hill, AL

Overbrook, AL

Oxford, AL

Ozark, AL

Phenix City, AL

Piedmont, AL

Plantersville, AL

Pleasant Gap, AL

Poarch, AL

Priceville, AL

Pyriton, AL

Red Oak, AL ¹

Rhodesville, AL

Scottsboro, AL

Sprott, AL

Stanton, AL

Sycamore, AL

Sylacauga, AL

Talledega, AL

Threet, AL

Triana, AL

Tuskegee, AL ¹

Waldo, AL

Wetumpka, AL

Wing, AL ¹

Winterboro, AL

Arizona

Alpine, AZ ¹

Arivaca, AZ

Bonita Creek, AZ

Camp Geronimo, AZ ¹

Cherry, AZ ²

Chircahua, AZ

Christopher Creek, AZ

Cibola, AZ

Colcord, AZ

Crown King, AZ

Cutter, AZ

Deer Springs, AZ

Desert View, AZ 1, 2

Eager, AZ ²

East Rim Drive, AZ ¹

Ellision Creek, AZ

Flagstaff, AZ ¹

Forest Lakes, AZ ¹

Geronimo Estates, AZ

Globe, AZ

Golden Shores, AZ

Gordon Canyon, AZ

Grand Canyon Village, AZ ¹

Greer, AZ ¹

Groom Creek, AZ

Hawley Lake, AZ

Headquarters, AZ

Herber, AZ ²

Hermit's Rest, AZ

Hideway, AZ ¹

Highway 64, AZ

Hondah, AZ ¹

Hunter Creek, AZ ¹

Hunters Point, AZ

Jeddito, AZ

Kaibab Lodge, AZ ²

Keams Canyon, AZ

Kingman, AZ

Kitt Peak, AZ

Kohl's Ranch, AZ

Lakeside, AZ ¹

Linden, AZ ¹

Little Field, AZ

Maricopa Colony, AZ

McNary, AZ ¹

Mormon Lake, AZ ¹

Mount Lemmon, AZ

New River, AZ ²

North Rim Developed, AZ ²

North Rim Historic, AZ ²

Nutrioso, AZ ²

Oak Creek, AZ

Oak Springs, AZ

Oracle, AZ

Overgaard, AZ ²

Parks, AZ ¹

Payson, AZ

Peridot, AZ

Pine, AZ ¹

Pine Springs, AZ ²

Pinedale, AZ ¹

Pinelake, AZ ²

Pinetop, AZ ¹

Pinewood, AZ

Pleasant Valley, AZ

Point of Pines, AZ

Polacca, AZ

Prescott, AZ ²

Saint John, AZ

San Carlos, AZ

San Pedro, AZ

Santa Cruz, AZ

Sasabe, AZ

Second Mesa, AZ

Show Low, AZ ¹

Strawberry, AZ ¹

Summit, AZ

Supai, AZ

Third Mesa, AZ

Tonto Village, AZ ¹

Tsaile, AZ ²

Walker, AZ

Washington Park, AZ

West Rim Drive, AZ

Whispering Pines, AZ

Whiteriver, AZ ¹

Williams, AZ ¹

Yaki Point, AZ ¹

Yavapai Prescott, AZ

Yuma, AZ

California

Acton, CA

Adelanto, CA

Agoura Hills, CA 1, 2

Alpine, CA

Alta Sierra, CA

Altadena, CA

Amador City, CA

Angels Camp, CA

Apple Valley, CA

Arcadia, CA

Arnold, CA

Atascadero, CA

Auberry, CA

Auburn, CA

Azusa, CA

Banning, CA 1, 2

Beale Air Force Base, CA

Beaumont, CA

Beverly Hills, CA 1, 2

Big Bear City, CA ¹

Big Bear Lake, CA ¹

Big Oak Flat, CA

Bodfish, CA

Bolinas, CA ²

Bootjack, CA

Boulder Creek High, CA

Boulevard, CA ¹

Bradbury, CA

Brea, CA

Burney, CA

Cabazon, CA

Cameron Park, CA

Camp Pendleton North, CA

Camp Rest, CA

Camptonville, CA ²

Canyon Lake, CA

Carlsbad, CA

Carpinteria, CA

Cascade Oro, CA

Cathedral City, CA

Cedar Ridge, CA

Central Valley, CA

Challenge-Brownsville, CA

Cherry Valley, CA

Chester, CA ¹

Chico, CA

Chino, CA

Chula Vista, CA ²

Claremont, CA

Clearlake, CA ²

Cloverdale, CA

Coachella, CA

Cobb, CA

Colfax, CA

Columbia, CA ¹

Concow, CA

Corona, CA ¹

Coronado, CA

Coto de Caza, CA

Covelo, CA ¹

Crestline, CA 1, 2

Del Monte Forest, CA

Del Rey Oaks, CA

Desert Hot Springs, CA

Devonshire, CA

Diamond Bar, CA

Diamond Springs, CA

Dollar Point, CA

Dorris, CA

Dresserville, CA

Duarte, CA

Dunsmuir, CA

East Hemet, CA

East Sonora, CA

Edwards Air Force Base, CA

El Dorado Hills, CA

El Toro, CA

El Toro Marine Corps Air Station, CA

Encinitas, CA

Escondido, CA

Etna, CA

Fallbrook, CA

Fontana, CA

Forest Knolls, CA

Foresthill, CA ¹

Fort Jones, CA ²

Frazier Park, CA

George Air Force Base, CA

Glen Avon, CA

Glendale, CA

Glendora, CA ¹

Glenshire, CA

Grass Valley, CA

Greenville, CA

Groveland, CA ²

Happy Camp, CA

Harbison Canyon, CA

Hayfork, CA ²

Hemet, CA ¹

Hesperia, CA

Hidden Meadows, CA

Hidden Valley Lake, CA

Highland, CA

Homestead Valley, CA

Hoopa, CA

Idyllwild, CA ¹

Imperial Beach, CA

Indian Wells, CA

Indio, CA

Inverness, CA ²

Ione, CA

Irvine, CA

Jamestown, CA

Jamul, CA

Julian, CA ²

Kelseyville, CA ¹

Kernville, CA

Kings Beach, CA ¹

Klamath, CA

La Canada Flintridge, CA

La Crescenta, CA

La Habra Heights, CA

La Quinta, CA

La Verne, CA

Lagunitas, CA

Lake Arrowhead, CA ¹

Lake Elsinore, CA

Lake Isabella, CA

Lake Nacimiento, CA

Lakeland Village, CA

Lakeport, CA

Lakeside, CA ²

Lakeview, CA

Lancaster, CA

Lewiston, CA

Littlerock, CA

Lompoc, CA

Lone Pine, CA ²

Los Angeles, CA 1, 2

Los Serranos, CA

Lower Lake, CA

Loyalton, CA ¹

Lucerne, CA

Magalia, CA

Mammoth Lakes, CA ²

March Air Force Base, CA

Marina, CA

Martinez, CA

McCloud, CA

Meiners Oaks, CA

Mentone, CA

Mill Valley, CA ²

Mira Monte, CA

Mission Viejo, CA

Mi-Wuk Village, CA

Mono Vista, CA

Monrovia, CA

Monterey, CA ²

Montrose, CA

Moonstone, CA

Moreno Valley, CA

Morongo Valley, CA

Mount Helix, CA

Mount Shasta, CA ²

Mountain Mesa, CA

Murphys, CA

National City, CA

Nevada City, CA ²

Nice, CA

Norco, CA

North Auburn, CA

North Fork, CA 1, 2

Nuevo, CA

Oakhurst, CA ²

Oceanside, CA

Ojai, CA ²

Ontario, CA

Oroville, CA

Oroville East, CA

Pala, CA ¹

Palermo, CA

Palm Desert, CA

Palm Springs, CA

Palmdale, CA

Paradise, CA ²

Pasadena, CA

Perris, CA

Phoenix Lake, CA

Pine Cove, CA

Pine Valley, CA

Piru, CA

Placerville, CA

Plymouth, CA

Point Arena, CA

Point Dume, CA

Pollock Pines, CA

Pomona, CA

Porterville, CA ¹

Portola, CA

Portola Hills, CA

Poway, CA

Quail Valley, CA

Quincy-East Quincy, CA ²

Rainbow, CA

Ramona, CA

Rancho Mirage, CA

Rancho Cucamonga, CA

Rancho Santa Margarita, CA

Redding, CA ²

Redlands, CA

Rialto, CA

Riverside, CA

Rosamond, CA

Rowland Heights, CA

Running Springs, CA

San Andreas, CA

San Antonio Heights, CA

San Bernadino, CA

San Clemente, CA

San Diego, CA

San Diego Country Estates, CA

San Dimas, CA

San Marcos, CA

Sand City, CA

Santa Barbara, CA

Santa Clarita, CA ¹

Santa Rosa, CA ²

Santa Ysabel, CA ¹

Santee, CA

Seaside, CA

Shingle Springs, CA ¹

Sierra Madre, CA

Simi Valley, CA

Sonora, CA

Soulsbyville, CA

South Lake, CA

South Lake Tahoe, CA

South Oroville, CA

Squaw Valley, CA

Sun City, CA

Sunnyside, CA

Susanville, CA

Sutter Creek, CA

Sycuan, CA ²

Tahoe City, CA ¹

Tahoe Vista, CA

Tamalpais, CA

Temecula, CA

Thousand Oaks, CA

Thousand Palms, CA

Tollhouse, CA ¹

Toulumne, CA ²

Trabuco Highlands, CA

Trinidad, CA

Truckee, CA ¹

Tuolumne, CA

Twain Harte, CA

Upland, CA

Val Verde, CA ¹

Valle Vista, CA

Valley Center, CA 1, 2

Vandenberg Air Force Base, CA

Vandenberg Village, CA

Victorville, CA

Vista, CA

Warner Springs, CA ²

Weed, CA

Westhaven, CA

Westlake Village, CA

Wildomar, CA

Willow Creek, CA ¹

Winchester, CA

Winterhaven, CA

Wofford Heights, CA

Woodcrest, CA

Wrightwood, CA ¹

Yosemite Lakes, CA

Yreka, CA

Yucaipa, CA

Yucca Valley, CA

Colorado

Abbeyville, CO

Acequia, CO

Adelaide, CO

Aguilar, CO

Akin, CO

Alamo, CO

Alamosa, CO

Alder, CO

Alice, CO

Allenspark, CO ¹

Allison, CO

Alma, CO

Alma Junction, CO

Almont, CO

Alpine, CO

Alpine (historical), CO

Alta, CO

Altman, CO

Altona, CO

American City, CO

Americus, CO

Ames, CO

Anaconda, CO

Angora, CO

Antero Junction, CO

Antlers, CO

Antonito, CO

Anvil Points, CO

Apex, CO

Ara, CO

Arboles, CO

Archer, CO

Arriola, CO

Arrowhead, CO

Arrowood, CO

Ashcroft, CO

Aspen, CO

Aspen Meadows, CO

Aspen Park, CO

Aspen Springs, CO

Austin, CO

Austin Post Office, CO

Avon, CO

Axial, CO

Badito, CO

Bailey, CO

Bakerville, CO

Balarat, CO

Baldwin, CO

Balltown, CO

Baltimore, CO

Bark Ranch Subdivision, CO

Barnesville, CO

Basalt, CO

Battle Creek, CO

Baxterville, CO

Bayfield, CO ²

Beacon Hill, CO

Bear River, CO

Beaver Point, CO ²

Bedrock, CO

Belden, CO

Belleview, CO

Bellford Mountain Heights, CO

Bellvue, CO

Bergen Park, CO

Berthoud Falls, CO

Beulah, CO ¹

Beverly Hills, CO

Big Elk Meadows, CO

Bighorn, CO ¹

Biglow, CO

Birdseye, CO

Black Eagle Mill, CO

Black Forest, CO

Black Hawk, CO

Blanca, CO

Blue Mountain, CO

Blue Mountain Subdivision, CO

Blue River, CO

Blue Valley, CO

Bonanza, CO ¹

Bonanza Mountain Estates, CO

Boncarbo, CO

Bond, CO

Bondad, CO

Bordenville, CO

Boswich Park, CO

Boulder, CO ¹

Boulder Junction, CO

Bountiful, CO

Bowie, CO

Box Prairie, CO

Bradford, CO

Breckenridge, CO ²

Breen, CO

Breeze Basin, CO

Bridges Switch, CO

Brimstone Corner, CO

Broadmoor, CO

Broken Arrow Acres, CO

Bronquist, CO

Brook Forest, CO

Brookside, CO

Brookvale, CO

Browns Canon, CO

Brumley, CO

Buckhorn Canyon, CO

Buckskin Joe, CO

Buena Vista, CO

Buffalo Creek, CO ¹

Buford, CO

Burns, CO

Buttes, CO

Cabazon Subdivision, CO

Cameo, CO

Camp Bird, CO

Camp Hale, CO

Canon City, CO

Carbon Junction, CO

Carbondale, CO

Cardiff, CO

Cardinal, CO

Caribou, CO

Caribou City, CO

Carracas, CO

Carterville, CO

Cascade, CO

Castle Rock, CO

Cathedral, CO

Catherine, CO

Cattle Creek, CO

Cedar Cove, CO

Cedar Creek, CO

Cedar Grove, CO

Cedar Point, CO

Cedaredge, CO

Cedarwood, CO

Centerville, CO

Central City, CO ¹

Chacra, CO

Chama, CO

Chance, CO

Chandler, CO

Chattanooga, CO

Chavez Arroyo, CO

Chimney Rock Post Office, CO ²

Chipeta, CO

Chipita Park, CO

Chromo, CO

Cimarron, CO

Clark, CO

Cleora, CO

Cliffdale, CO

Clifton, CO

Climax, CO

Coal Creek, CO

Coaldale, CO

Coburn, CO

Cody Park, CO

Cokedale, CO

Colby, CO

Cold Spring, CO

Collbran, CO

Colona, CO

Colorado City, CO

Colorado Springs, CO

Columbine, CO

Columbine Valley, CO

Columbus, CO

Commerce City, CO

Como, CO

Conejos, CO

Conifer, CO

Conifer Mountain, CO

Copper Mountain, CO

Copper Spur, CO

Copperdale, CO

Cordova Plaza, CO

Cortez, CO

Cory, CO

Cory Post Office, CO

Cotopaxi, CO

Cottonwood, CO

Coventry, CO

Cowdrey, CO

Craig, CO

Craig Place, CO

Craig South Highlands, CO

Crawford, CO

Creede, CO

Crescent, CO

Crescent Village, CO

Crested Butte, CO ¹

Crestone, CO ¹

Cripple Creek, CO

Crisman, CO

Crossons, CO

Crow Hill, CO

Crystal, CO

Crystola, CO

Cuchara, CO

Cuerna Verde Park, CO

Dallas, CO

De Beque, CO

Deckers, CO

Deermont, CO

Del Norte, CO

Delagua, CO

Dell, CO

Delta, CO

Derby Junction, CO

Dillon, CO

Dinosaur, CO ²

Divide, CO

Dolores, CO ²

Dome Rock, CO

Dotsero, CO

Dove Creek, CO

Dowds Junction, CO

Downieville, CO

Drake, CO

Duffield, CO

Dumont, CO

Dunckley, CO

Dunton, CO

Durango, CO ²

Durango West, CO

Dyersville, CO

Dyke, CO

Eagle, CO

Eagles Nest, CO

East Canon, CO

East Portal, CO

East Vancorum, CO

Eastonville, CO

Echo, CO

Eckert, CO

Edgemont, CO

Edith, CO

Edwards, CO

Eggers, CO

Egnar, CO

El Jebel, CO

El Moro, CO

El Rancho, CO

El Vado, CO

Eldora, CO

Eldorado Springs, CO

Eldredge, CO

Elephant Park, CO

Elk Creek Acres, CO ¹

Elk Ridge, CO

Elkdale, CO

Elkhead, CO

Elkton, CO

Elsmere, CO

Emma, CO

Empire, CO

Engleville (abandoned), CO

Espinosa, CO

Estabrook, CO

Estes Park, CO 1, 2

Evansville, CO

Everett, CO

Evergreen, CO ²

Fairplay, CO

Fairview, CO

Falfa, CO

Fall River Estates Subdivision, CO

Farista, CO

Fenders, CO

Ferncliff, CO

Ferndale, CO

Fink, CO

Florence, CO

Floresta, CO

Florida, CO

Florida Mesa, CO

Florissant, CO

Fort Boettcher, CO

Fort Carson, CO

Fort Collins, CO

Fort Garland, CO

Fox Creek, CO ²

Foxton, CO

Franktown, CO

Fraser, CO

Freeland, CO

Frisco, CO

Frost, CO

Fruita, CO

Fruitland Mesa, CO

Fulford, CO

Funston, CO

Galena, CO

Garfield (historical), CO

Gaskil, CO

Gateview, CO

Gateway, CO ¹

Gem Village, CO

Genesee, CO

Georgetown, CO

Gerrard, CO

Gillet (historical), CO

Gilman, CO

Gilpin, CO

Gilson Gulch, CO

Gilsonite, CO

Glade Park, CO

Glen Comfort, CO

Glen Cove, CO

Glen Echo, CO

Glen Eden, CO

Glen Eyie, CO

Glen Haven, CO

Glen Park, CO

Glendale, CO

Glendevey, CO

Glendevey Post Office, CO

Glenelk, CO

Glenisle, CO

Glenwood Springs, CO

Gold Hill, CO

Gold Park, CO

Gold Run Subdivision, CO

Golden, CO

Goldfield, CO

Goodell Corner, CO

Goodnight, CO

Goodpasture, CO

Gothic, CO

Gould, CO ¹

Granby, CO

Grand Island, CO

Grand Junction, CO

Grand Lake, CO ²

Grand Mesa, CO

Grandview, CO

Granite, CO

Grant, CO

Graymount, CO

Green Mountain, CO

Green Mountain Falls, CO

Green Mountain Village, CO

Green Valley Acres, CO

Greenhorn, CO

Greenland, CO

Greenwood, CO

Ground Hog, CO

Guadalupe, CO

Guffey, CO

Gulnare, CO

Gunnison, CO

Gunston, CO

Gypsum, CO

Hahns Pear, CO

Halfway House, CO

Hamilton, CO

Hancock, CO

Happy Canyon, CO

Harris Park, CO

Haver, CO

Hay Camp, CO

Haybro, CO

Hayden, CO

Heeney, CO

Heiberger, CO

Henkel, CO

Henson, CO

Hermosa, CO

Herzman Mesa, CO

Hesperus, CO

Hessie, CO

Hidden Lake, Subdivision, CO

Hidden Valley, CO

Hideaway Park, CO

Hierro, CO

Highland Park, CO

Hillside, CO

Hiwan Hills, CO

Holiday Acres, CO

Hollywood, CO

Holy Cross City, CO

Homewood Park, CO

Hooks, CO

Hooper, CO

Hoovers Corner, CO

Horsetooth Heights, CO

Hot Sulphur Springs, CO

Hotchkiss, CO

Howard, CO

Hygiene, CO

Idaho Springs, CO

Idledale, CO

Idylwilde, CO

Ignacio, CO

Iles Grove, CO

Independence, CO

Independence (historical), CO

Indian Creek, CO

Indian Hills, CO

Indian Meadows, CO

Indian Springs Village, CO

Indian Hills, CO

Insmont, CO

Iola, CO

Iola (historical), CO

Iris, CO

Iron City (historical), CO

Ironton, CO

Irwin, CO

Ivywild, CO

Jack Springs, CO

Jacks Cabin, CO

Jamestown, CO

Jansen, CO

Jasper, CO

John Held Corner, CO

Johnson Village, CO

Juanita, CO

Juanita Junction, CO

Juniper Hot Springs, CO

Kannah, CO

Kassler, CO

Kearns, CO

Kellytown, CO

Keyhole, CO

Keystone, CO

Kiggin, CO

Kings Canyon, CO

Kinikinik, CO

Kittredge, CO

Kline, CO

Knob Hill, CO

Kobe, CO

Kokomo, CO

Kremmling, CO

La Boca, CO

La Foret, CO

La Garita, CO

La Jara, CO

La Plata, CO

La Posta, CO

La Valley, CO

La Veta, CO

La Veta Pass, CO

Lake City, CO

Lake George, CO

Lake Shore Park Subdivision, CO

Lamartine, CO

Laporte, CO

Larkspur, CO

Lawson, CO

Lazear, CO

Lazy Acres Subdivision, CO

Leadville, CO

Leadville Junction, CO

Leal, CO

Leavick, CO

Lebanon, CO

Lenado, CO

Leon, CO

Leonard, CO

Lewis, CO

Leyden, CO

Liberty, Bell, CO

Lime, CO

Lincoln, CO

Lincoln Hills, CO

Lincoln Park, CO

Little Dam, CO

Little Hills, CO

Livermore, CO

Log Hill, CO

Loma, CO

Loma Linda, CO

Lone Pine Estates, CO

Lonetree, CO

Longview, CO

Lookout Mountain, CO

Lost Acres, CO

Louviers, CO

Loveland Heights, CO

Loyd, CO

Ludlow, CO

Lujane, CO

Lynn, CO

Lyons, CO

Mad Creek, CO

Magnolia, CO ¹

Maher, CO

Malachite, CO

Malta, CO

Manassa, CO

Mancos, CO ²

Manitou Springs, CO

Marble, CO

Marshall, CO

Marshdale, CO

Maryvale, CO

Masontown, CO

Masonville, CO

Masonville Post Office, CO

Mayday, CO

Maysville, CO

McCoy, CO

McGregor, CO

McKenzie Junction, CO

McKinley, CO

McAlamo Canyon, CO

Mears Junction, CO

Medina Plaza, CO

Meeker, CO

Meeker Park, CO 1, 2

Meredith, CO

Mesa Lakes, CO

Mesa Lakes Resort, CO

Mesa Verde Park, CO ²

Mid Vail, CO

Midland, CO

Midway, CO

Midway (historical), CO

Millwood, CO

Milner, CO

Minnehaha, CO

Minturn, CO

Miramonte, CO

Mishawaka, CO

Mitchell, CO

Moffat, CO

Mogote, CO

Molina, CO

Monarch, CO

Monson, CO

Montbello, CO

Monte Vista, CO

Monte Vista Estates, CO

Montezuma, CO

Montrose, CO

Montrose South, CO

Monument, CO

Monument Park, CO

Moonridge, CO

Morely, CO

Morrison, CO

Morrison Creek, CO ¹

Mount Crested Butte, CO

Mount Harris, CO

Mount Lincoln, CO

Mount Vernon Club Place, CO

Mountain Estates, CO

Mountain Meadows (subdivision), CO

Mountain View, CO

Muddy Pass, CO

Muleshoe, CO

Mulford, CO

Mystic, CO

Nathrop, CO

Naturita, CO

Nederland, CO

Needleton, CO

Nevadaville, CO

New Castle, CO

Newett, CO

Nighthawk, CO

Ninetyfour, CO

Niwot, CO

Noel, CO

Noland, CO

Norrie, CO

North Creede, CO

North Delta, CO

North Vallecito, CO

Norwood, CO

Nucla, CO

Nugget, CO

Nutria, CO

Oak Creek, CO ¹

Oak Grove, CO

Occidental, CO

Oehlmann Park, CO

Ohio, CO ¹

Olathe, CO

Olava Post Office, CO

Olympus Heights, CO

Ophir, CO

Ophir Loop, CO

Orchard City, CO

Orchard Corner, CO

Orchard Mesa, CO

Orchard Park, CO

Orodell, CO

Orsa, CO

Osier, CO

Ouray, CO

Owl Canyon, CO

Oxford, CO

Oxyoke, CO

Pactolus, CO

Pagoda, CO

Pagosa Junction, CO

Pagosa Springs, CO

Paisaje, CO

Palisade, CO

Palmer Lake, CO

Pando, CO

Pandora, CO

Paonia, CO

Papeton, CO

Parachute, CO

Paradise Hills, CO

Paradox, CO

Park Center, CO

Park City, CO

Park View, CO

Parkdale, CO

Parkville, CO

Parras Plaza, CO

Parshall, CO

Patterson Place, CO

Payne, CO

Pea Green Corner, CO

Peabodys, CO

Peaceful Valley, CO

Perigo, CO

Peyton, CO

Phillipsburg, CO

Phippsburg, CO¹

Phoenix, CO

Picaence Rural, CO

Pictou, CO

Piedra, CO ²

Pike-San Isabel Village, CO

Pikeview, CO

Pine, CO

Pine Brook Hill Subdivision, CO

Pine Crest, CO

Pine Junction, CO

Pine Nook, CO

Pine Valley, Co

Pinecliffe, CO

Pinewood Springs, CO

Pingree Park, CO

Pinon, CO

Pinon Acres, CO

Pitkin, CO ¹

Pittsburg, CO

Placerville, CO

Placita, CO

Plainview, CO

Platte Springs, CO

Pleasant Valley, CO

Pleasant View, CO

Pleasanton, CO

Poncha, Springs, CO

Portland, CO

Poudre Park, CO

Powderhorn, CO

Preston, CO

Primero, CO

Princeton, CO

Prospect Heights, CO

Pryor, CO

Purgatory, CO

Querida, CO

Radium, CO

Rand, CO

Range, CO

Rangely, CO

Raymond, CO

Read, CO

Red Feather Lakes, CO ²

Red Mesa, CO

Red Mountain, CO

Red Wing, CO

Redcliff, CO

Redlands, CO

Reds Place, CO

Redstone, CO

Redvale, CO

Reilly Canyon, CO

Rex, CO

Rhone, CO

Rico, CO

Ridge at Hiwan, CO

Ridgewood Subdivision, CO

Ridgway, CO

Rifle, CO

Rio Blanco, CO

Rio Grande, CO

Rist Canyon, CO

Riverside, CO

Riverview, CO

Robinson Place, CO

Rock Creek Park, CO

Rockdale, CO

Rockvale, CO

Rockwood, CO

Rocky, CO

Roe, CO

Rogers Mesa, CO

Rollinsville, CO

Romeo, CO

Romley, CO

Rosedale, CO

Rosemont, CO

Rosevale, CO

Rosita, CO

Roswell, CO

Rouse, CO

Rowena, CO

Roxborough Park, CO

Rugby, CO

Rulison, CO

Russell Gulch, CO

Rustic, CO¹

Rye, CO

Saguache, CO

Saint Ann Highlands Subdivision, CO

Saint Elmo, CO

Saints John, CO

Salida, CO

Salina, CO

Sample, CO

Sams, CO

San Isabel, CO

San Luis, CO

San Miguel, CO

Sanford, CO

Santa Maria, CO

Sapinero, CO

Sarcillo, CO

Sargents, CO¹

Satank, CO

Saunders, CO

Sawpit, CO

Saxton, CO

Sedalia, CO

Segundo, CO

Seven Hills Subdivision, CO

Seven Lakes, CO

Shaffers Crossing, CO

Shamballah-Ashrama, CO

Sharpsdale, CO

Shavano, CO

Shawnee, CO

Sheephorn, CO

Sherman, CO

Shirley, CO

Sikes, CO

Sillsville, CO

Silt, CO

Silver Cliff, CO

Silver Heights, CO

Silver Plume, CO

Silver Springs, CO

Silver Springs

Subdivision, CO

Silver Spruce, CO

Silverdale, CO

Silverthorne, CO

Silverton, CO

Singleton, CO

Sky Village, CO

Sleepy Cat, CO

Slick Rock, CO

Smeltertown, CO

Smith Hill, CO

Smith Place, CO

Sneffels, CO

Snow Water Springs, CO

Snowmass, CO

Snowmass Village, CO

Somerset, CO

South Fork, CO ¹

South Platte, CO

Southern Ute Indian Tribe

Youth Camp, CO ¹

Spencer Heights, CO

Sphinx Park, CO

Spike Buck, CO

Springdale, CO

Spruce, CO

Sprucedale, CO

Sprucewood, CO

Stage Coach, CO ¹

Stanley Heights, CO

Subdivision, CO

Stanley Park, CO

Stapleton, CO

Starkville, CO

State Bridge, CO

Steamboat II, CO

Steamboat Springs, CO ¹

Stollsteimer, CO

Stone City, CO

Stoner, CO

Stonewall, CO

Stonewall Gap, CO

Stove Prairie, CO

Stove Prairie Landing, CO

Stratton, CO

Stratton Meadows, CO

Stringtown, CO ¹

Sugarloaf, CO

Summerville, CO

Summit, CO

Sunnyside, CO

Sunset, CO

Sunset City, CO

Sunshine, CO

Surles Meadow, CO

Swan, CO

Swissvale, CO

Switzerland Park, CO

Tabernash, CO

Tacoma, CO

Tall Timber Subdivision, CO

Tanglewood Acres, CO

Tarryall, CO

Telluride, CO

Terico, CO

Texas Creek, CO

The Pines, CO

Thomasville, CO

Thornburgh, CO

Three Bridges, CO

Three Forks, CO

Tiffany, CO

Tijeras, CO

Tincup, CO ¹

Tiny Town, CO

Tolland, CO

Tomah, CO

Toponas, CO

Tordal Estates, CO

Torres, CO

Towaoc, CO ²

Trail Junction Picnic Grounds, CO

Trappers Crossing, CO

Treasure, CO

Trimble, CO

Trinidad, CO

Troublesome, CO

Troutdale, CO

Trujillo, CO

Trumbull, CO ¹

Trump, CO

Tuckerville, CO

Tungsten, CO

Twin Cedars, CO

Twin Forks, CO

Twin Lakes, CO

Twin Spruce, CO

Una, CO

Uncompahgre, CO

Uncompahgre Plateau, CO

Uravan, CO

Ute, CO

Vail, CO

Valdez, CO

Vallecito, CO

Valley View, CO

Vallie, CO

Vallorso, CO

Valmont, CO

Vanadium, CO

Vance Junction, CO

Vancorum, CO

Velasquez Plaza, CO

Vernal, CO

Victor, CO

Vigil, CO

Vulcan, CO

Wagon Wheel Gap, CO

Wah Keeney Park, CO

Walden, CO

Wallstreet, CO

Walsenburg, CO

Waltonia, CO

Wandcrest Park, CO

Ward, CO

Waterton, CO

Waunita Hot Springs, CO

Weasleskin, CO

Weber, CO

Webster, CO

Weller, CO

Wellsville, CO

West Creek, CO

West Dolores, CO

West Vail, CO

West Vancorum, CO

Westcliffe, CO

Weston, CO

Wetmore, CO

Wheeler Junction, CO

Wheelman, CO

Whispering Pine Subdivision, CO

White River City, CO

Whitehorn, CO

Whitepine, CO ¹

Whitewater, CO

Wideawake, CO

Widefield, CO

Wigwam, CO

Wilderness Lake, CO

Will-O-The-Wisp, CO

Winfield, CO

Wingo, CO

Winter Park, CO

Witcher Ranch, CO

Wolcott, CO

Wondervu, CO

Woodland Park, CO

Woody Creek, CO

Yampa, CO ¹

Yankee, CO

Yellow Jacket, CO

Yorkville, CO

Zamara, CO

Zapata, CO

Florida

Altonnia, FL

Astor, FL

Astor Park, FL

Avon Park, FL

Baxter, FL

Benton, FL

Big Cypress, FL ¹

Big Pine Key, FL

Blackhammock Island, FL

Brevard County, FL

Brighton, FL ¹

Bristol, FL

Buckhorn, FL

Burbank, FL

Cape Canaveral, FL

Carrabelle, FL

Carraway, FL

Cocoa Beach, FL

Copeland, FL

Crawfordville, FL

Davenport, FL

DeLand, FL

DeLeon Springs, FL

Destin, FL

Eagle Lake, FL

Everglades City, FL

Florida City, FL

Forest Corners, FL

Fort Kissimmee, FL

Fort Walton, FL

Glen Saint Mary, FL

Golden Gate, FL

Gulf Breeze, FL ¹

Gulf Islands Park Headquarters, FL

Halfmoon Island, FL ¹

Harris Fish, FL

Highland Park Fish Camp, FL

Hobe Sound, FL

Homestead, FL

Hosford, FL

Immokale, FL ¹

Indian Lake Estate, FL

Johnson, FL

Jupiter Island, FL

Kennedy Space Center, FL

Kudjoe Key, FL

Lake City, FL

Lanark, FL

Little Torch Key, FL

Lynne, FL

Macclenny, FL

Medart, FL

Merritt Island, FL

Mexico Beach, FL

Miccosukee Indian Village, FL

Miccosukee Reserved Area, FL 1, 2

Miccosukee Trail, FL ¹

Miles City, FL

Mocassin Creek, FL

Mount Carrie, FL

Naples, FL

Navarre, FL

New Port, FL

Niceville, FL

No Name Key, FL

Oak Hill, FL

Ocala, FL

Olustee, FL ²

Orange Springs, FL

Oyster Bay, FL

Panacea, FL

Panama City, FL

Pine Island, FL

Pittman, FL

Plantation Hill, FL

Ponciana, FL

Port Saint Johns, FL

Purify Bay, FL

Reservation Road, FL

Royal Palm, FL

Rural Miami-Date County, FL

Saint Marks, FL

Salt Springs, FL ¹

Sanderson, FL

Scottmoor, FL

Seaside, FL

Sebring, FL

Shell Point, FL

Shell Road Fish Camp, FL

Silver Springs, FL

Sopchoppy, FL ¹

Spring Creek, FL

Sugarload Key, FL

Tallahassee, FL

Taylor, FL

Titusville, FL

Umatilla, FL

Villa Venyce, FL 1, 2

Wakulla, FL

Wakulla Beach, FL

Welaka, FL

Woodville, FL

Iowa

Beebeetown, IA

California Junction, IA

Loveland, IA

Missouri Valley, IA

Modale, IA

Idaho

Aberdeen, ID

Acequia, ID

Adrian, ID

Ahsahka, ID

Albeni, ID

Albion, ID

Almo, ID

Alpine, ID

Alta, ID

American Falls, ID

Arbon, ID

Arbon Valley, ID ²

Arco, ID

Arimo, ID

Ashton, ID

Asotin, ID

Athol, ID

Atlanta, ID

Atomic City, ID

Avery, ID

Baker, ID

Bancroft, ID

Banida, ID

Banks, ID

Bannock Creek, ID ²

Basalt, ID

Bayview, ID

Bearpaw, ID

Bellevue, ID

Bennington, ID

Bern, ID

Blackfoot, ID

Blanchard, ID

Bliss, ID

Bloomington, ID

Bluebell, ID

Boise, ID ²

Bone, ID

Bonners Ferry, ID

Bovill, ID

Bowmont, ID

Bruneau, ID

Buhl, ID

Burke, ID

Burley, ID ¹

Butte City, ID

Cabinet, ID

Calder, ID

Caldwell, ID

Cambridge, ID

Carey, ID ¹

Careywood, ID

Carmen, ID

Cascade, ID

Castleford, ID

Cataldo, ID

Cavendish, ID

Centerville, ID

Challis, ID ¹

Chatcolet, ID

Chester, ID

Chubbuck, ID

Clark Fork, ID

Clarkia, ID

Clayton, ID

Clearwater, ID

Clifton, ID

Cobalt, ID

Cocolalla, ID

Coeur d'Alene, ID

Colburn, ID

Conda, ID

Conner Creek, ID

Coolin, ID

Cora, ID

Corral, ID

Cottonwood, ID

Council, ID

Craigmont, ID

Crouch, ID

Culdesac, ID

Cuprum, ID

Dalton Gardens, ID

Darlington, ID

Dayton, ID

De Smet, ID

Deary, ID

Delco, ID

Dietrich, ID ²

Dingle, ID

Dixie, ID ¹

Donnelly, ID

Dover, ID

Downey, ID

Driggs, ID

Drummond, ID

Dubois, ID

Eagle, ID

East Hope, ID

Eastport, ID

Eden, ID

Elba, ID

Elk Bend, ID

Elk City, ID

Elk River, ID ¹

Elmire, ID

Emmett, ID

Enaville, ID

Evergreen, ID

Fairfield, ID

Farmington, ID

Felt, ID

Fenn, ID

Ferdinand, ID

Fernan Lake, ID

Fernwood, ID

Filer, ID

Firth, ID

Fish Haven, ID

Forest, ID

Fort Hall, ID

Franklin, ID

Freedom, ID

Fruitland, ID

Fruitvale, ID

Gannett, ID

Garden City, ID

Garden Valley, ID ²

Gardena, ID

Garfield, ID

Garrison, ID

Gem, ID

Genesee, ID

Geneva, ID

Georgetown, ID

Gibbonsville, ID ¹

Gilmore, ID

Glenns Ferry, ID

Golden, ID

Gooding, ID ²

Grace, ID

Grandview, ID

Grangemont, ID

Grangeville, ID ¹

Granite, ID

Grasmere, ID

Greencreek, ID

Greenleaf, ID

Greer, ID

Hagerman, ID

Hailey, ID

Halfway, ID

Hamer, ID

Hammett, ID

Hansen, ID

Harper, ID

Harpster, ID ¹

Harrison, ID

Harvard, ID ¹

Hatwai, ID ¹

Hauser, ID

Hayden, ID

Hayden Lake, ID

Hazelton, ID

Headquarters, ID

Heise, ID

Helmer, ID ¹

Heyburn, ID

Hill City, ID

Holbrook, ID

Hollister, ID

Homedale, ID

Hope, ID

Horseshoe Bend, ID

Howe, ID ¹

Huetter, ID

Idaho City, ID ²

Idaho Falls, ID

Indian Valley, ID

Inkom, ID

Iona, ID

Irwin, ID

Island Park, ID ²

Jerome, ID ²

Jordan Valley, ID

Juliaetta, ID

Juntura, ID

Kamiah, ID 1, 2

Kellogg, ID

Kendrick, ID

Ketchum, ID

Keutervile, ID

Kilgore, ID

Kimberly, ID

King Hill, ID

Kingston, ID

Kleinschmidt, ID

Kooskia, ID 1, 2

Kootena, ID

Kuna, ID

Laclede, ID

Lake Fork, ID

Lakeview, ID

Lamb Creek, ID

Lane, ID

Lapwai, ID ¹

Lava Hot Springs, ID

Leadore, ID

Lenore, ID

Leon, ID

Letha, ID

Lewiston, ID

Lewisville, ID

Lincoln, ID

Lookout, ID

Lorenzo, ID

Lost River, ID

Lowell, ID ¹

Lowman, ID ²

Lucille, ID

Machaund, ID

Mackay, ID ¹

Macks Inn, ID

Malad, ID

Malta, ID

Marsing, ID

Marysville, ID

May, ID

Mayfield, ID

McCall, ID

McCammon, ID

Meadows, ID ²

Medimont, ID

Melba, ID

Meridian, ID

Middleton, ID

Midvale, ID

Minidoka, ID

Mink Creek, ID

Monteview, ID

Montpelier, ID

Moore, ID

Moreland, ID

Moscow, ID

Mount Idaho, ID

Mountain City, ID

Mountain Home, ID

Mud Lake, ID

Mullan, ID

Murphy, ID

Murray, ID

Murtaugh, ID

Myrtle, ID

Namps, ID

Naples, ID

New Meadows, ID

New Plymouth, ID

Newacres, ID

Newdale, ID

Nezperce, ID

Nordman, ID ²

Norland, ID

North Bannock County, ID

North Fork, ID ¹

North Lapwai, ID

Notus, ID

Oakley, ID

Ola, ID

Oldtown, ID

Onaway, ID

Orofino, ID

Osburn, ID

Ovid, ID

Owyhee, ID

Oxford, ID

Pardee, ID

Paris, ID

Parker, ID

Parma, ID

Patterson, ID

Paul, ID

Pauline, ID

Payette, ID

Peck, ID

Picado, ID

Pierce, ID ¹

Pine, ID

Pinehurst, ID

Pineville, ID

Pingree, ID

Placerville, ID ²

Plummer, ID ²

Pocatello, ID ¹

Pollock, ID

Ponderay, ID

Porthill, ID

Post Falls, ID

Potlatch, ID ¹

Prairie, ID

Preston, ID

Prichard, ID

Priest Lake, ID

Priest River, ID

Princeton, ID

Quell, ID

Raft River, ID

Rathdrum, ID

Reubens, ID

Rexburg, ID

Reynolds, ID

Richfield, ID ²

Riddle, ID

Ridgeview, ID

Rigby, ID

Riggins, ID ¹

Ririe, ID

Riverside, ID

Roberts, ID

Rock Creek, ID

Rockford, ID ¹

Rockland, ID

Rogerson, ID

Rose Lake, ID

Rupert, ID

Sagle, ID

Salmon, ID ¹

Samaria, ID

Samuels, ID

Sanders, ID

Sandpoint, ID

Santa, ID

Setters, ID

Shelley, ID

Shoshone, ID ²

Shoup, ID

Silverton, ID

Slickpoo, ID

Smelterville, ID

Smiths Ferry, ID

Soda Springs, ID

South Mountain, ID

Southwick, ID

Spalding, ID

Spencer, ID ²

Spirit Lake, ID

Springfield, ID

St. Anthony, ID

St. Charles, ID

St. Joe, ID

St. Maries, ID

Stanley, ID

Star, ID

State Line, ID

Sterline, ID

Stites, ID

Stone, ID

Sugar City, ID

Sun Valley, ID

Sunbeam, ID ¹

Swan Valley, ID

Swanlake, ID

Sweet, ID

Sweetwater, ID

Tendoy, ID

Tensed, ID

Terrenton, ID

Teton, ID

Tetonia, ID

Thatcher, ID

Thornton, ID

Three Creek, ID

Time, ID

Tipanuk, ID

Troy, ID

Twin Falls, ID

Ucon, ID

Victor, ID

Viola, ID

Virginia, ID

Waha, ID ¹

Wallace, ID ²

Warm Lake, ID

Warm River, ID

Warren, ID ²

Wayan, ID

Webb, ID

Weider, ID

Weippe, ID ²

Weiser, ID

Wellesley, ID

Wendell, ID

Westmond, ID

Weston, ID

White Bird, ID

Wilder, ID

Winchester, ID

Woodland, ID

Worley, ID ²

Yellow, Pine, ID 1, 2

Yost, ID ¹

Indiana

Abydel, IN

Algiers, IN

Apalona, IN

Arlington, IN

Arthur, IN

Augusta, IN

Ayrshire, IN

Bartlettsville, IN

Bean Blossom, IN

Beatrice, IN

Beverly Shore, IN

Birdseye, IN

Bloomington, IN

Boone Grove, IN

Branchville, IN

Brandon, IN

Braodville, IN

Braxtons Siding, IN

Brownstown, IN

Burdick, IN

Burns Harbor, IN

Campbelltown, IN

Cannelton, IN

Cascade, IN

Cato, IN

Chambersburg, IN

Chesterton, IN

Chestnut Ridge, IN

Clear Creek, IN

Cobbs Corner, IN

Crisman, IN

Dabney, IN

Derby, IN

Dexter, IN

Dodd, IN

Dolan, IN

Dongola, IN

Douglas, IN

Dudleytown, IN

Dune Acres, IN ²

Eastern Heights, IN

Ellettsville, IN

English, IN

Fleener, IN

Four Corner, IN

Francisco, IN

Freetown, IN

French Lick, IN

Fritz Corner, IN

Furnesville, IN

Garyton, IN

Gatchel, IN

Gerald, IN

Graham Woods, IN

Gray Junction, IN

Gudgel, IN

Hagland, IN

Handy, IN

Hardingtongrove, IN

Harrodsburg, IN

Hartwell, IN

Hayden, IN

Heltonville, IN

Holton, IN

Hoosier Acres, IN

Hurleburt, IN

Ironton, IN

Iva, IN

Kelley Point, IN

Kings, IN

Kirksville, IN

Kriete Corner, IN

Lacy, IN

Lake Eliza, IN

Lake of Four Seasons, IN

Lauer, IN

Leavenworth, IN

Leopold, IN

Lilly Dale, IN

Lost River, IN

Lyles, IN

Magnet, IN

Marlin Hills, IN

McCool, IN

Mentor, IN

Morgan Park, IN

Mt. Pleasant, IN

Mt. Tabor, IN

Muren, IN

Nathez, IN

New Farmington, IN

New Unionville, IN

Oak Hill, IN

Oakland City, IN

Odgen Dunes, IN

Oriolie, IN

Otwell, IN

Paoli, IN

Patoka, IN

Pikeville, IN

Pleasant Valley, IN

Portage, IN

Porter, IN

Porter Crossroad, IN

Princeton, IN

Prospect, IN

Ranger, IN

Rocky Point, IN

Roland, IN

Rome, IN

Rusk, IN

Sanders, IN

Schnellville, IN

Seymour, IN

Shoals, IN

Smithville, IN

South Haven, IN

Spraytown, IN

St. Croix, IN

Stampers Creek, IN

Stendall, IN

Stinesville, IN

Sunny Slopes, IN

Syria, IN

Tell City, IN

Terry, IN

Tobinsport, IN

Town of Pines, IN

Town of Troy, IN

Tremont, IN

Unionville, IN

West Baden Springs, IN

Western Acres, IN

Willow Creek, IN

Willow Valley, IN

Windom, IN

Winslow, IN

Woodlawn Grove, IN

Wyandotte, IN

Yenne, IN

Zelma, IN

Zoar, IN

Kansas

Blue Rapids, KS

Carneiro, KS

Clinton, KS

Delia, KS

Elkhart, KS

Glade, KS

Grandview Plaza, KS

Hartford, KS

Hillsdale, KS

Junction City, KS

Kanopolis, KS

Kanwaka, KS

Keats, KS

Kickapoo, KS

Kirwin, KS

Leavenworth, KS

Lebo, KS

Mayetta, KS

Melvern, KS

Meriden, KS

Michigan Valley, KS

Milford, KS

Neosho Rapids, KS

Ogden, KS

Olivet, KS

Oskaloosa, KS

Ottumwa, KS

Ozawkie, KS

Perry, KS

Pleasanton, KS

Powhattan, KS

Randolph, KS

Reading, KS

Reserve, KS

Riley, KS

Rock Creek, KS

Rolla, KS

Spring Hill, KS

Strong City, KS

Stull, KS

Trading Post, KS

Valley Falls, KS

Vassar, KS

Wakefield, KS

White Cloud, KS

Woodruff, KS

Massachusetts

Aquinnah, MA

Chatham, MA

Eastham, MA

Lobsterville, MA

Orleans, MA

Provincetown, MA

Truro, MA

Wampanoag Tribe, MA

Wellfleet, MA ¹

Maryland

Aberdeen, MD

Aberdeen Proving Grounds, MD

Bel Air, MD

Cambridge, MD

Carroll County, MD

Cumberland, MD

Federalsburg, MD

Fort Detrick, MD

Fort Smallwood, MD

Frederick City, MD

Frostburg, MD

Fruitland, MD

Gaithersburg, MD

Kent Island, MD

Lake Liganore, MD

LaPlata, MD

Laurel, MD

Lusby, MD

Ocean Pines, MD

Parsonsburg, MD

Port Tobacco, MD

Princess Anne, MD

Rt. 30 ¹ Corridor, MD

Snow Hill, MD

Solomons, MD

St. Mary's County, MD

Waldorf, MD

Maine

Albany, ME ²

Bar Harbor, ME ²

Bethel, ME

Brunswick, ME

Caribou, ME

Caswell, ME

Connor, ME

Cooks Corner, ME

Cutler, ME

Edmunds, ME

Fort Fairfield, ME

Fowler, ME

Gilead, ME

Greenbush, ME

Greenfield, ME

Hall Quarry, ME ¹

Hull's Cove, ME 1, 2

Indian Township, ME

Isle Au Haut, ME 1, 2

Kennebunk, ME

Kennebunkport, ME

Limestone, ME

Lovell, ME

Manset, ME

Marion, ME

Milford, ME

Northeast Harbor, ME ²

Old Town, ME

Otter Creek, ME ²

Princeton, ME

Schoodic Point, ME

Seal Harbor, ME ²

Southwest Harbor, ME

Stoneham, ME

Topsham, ME

Tremont, ME ¹

Trescott, ME

Waite, ME

Waterford, ME

West Tremont, ME

Whiting, ME

Michigan

Baldwin, MI ¹

Bay Millis Main, MI

Bay Mills North, MI

Dublin, MI

Glennie, MI ¹

Hannahville Main, MI

Holton, MI

Hoxeyville, MI

Irons, MI

Luzerne, MI ¹

Mack Lake, MI ¹

Mio, MI ¹

Oscoda, MI ¹

Raco, MI ²

Rapid River, MI ¹

Saint Helen, MI

Seney, MI

South Branch, MI

Stonington, MI

Trenary, MI

Trout Lake, MI

Twin Lake, MI

Wellston, MI

Wolf Lake, MI

Woodville, MI

Minnesota

Auroa, MN

Babbit, MN

Ball Club, MN ¹

Becker, MN

Bemidji, MN

Bena, MN

Big Lake, MN

Blackduck, MN

Bowstring, MN

Boy River, MN ¹

Brimson, MN

Britt, MN ¹

Brookston, MN

Burnsville, MN

Cass Lake, MN

Chisholm, MN

Clear Lake, MN

Cloquet, MN ¹

Cook, MN ¹

Crane Lake, MN

Deer River, MN

Duluth, MN

Eagan, MN

East Bethel City, MN

East Lake, MN

Elbow Lake, MN ¹

Ely, MN

Federal Dam, MN ¹

Grand Portage, MN

Gunflint Corridor, MN ¹

Harris, MN

Hibbing, MN

Hovland, MN

Hoyt Lakes, MN

Indian Pt., MN

Inger, MN

International Falls, MN

Isabella, MN

Jessie Lake, MN

Kabetogama, MN

Linwood Township, MN

Little Rock, MN

Maple Hill, MN

Marcell, MN

McGregor, MN

Mission, MN

Motley, MN

Nashwauk, MN

Naytahwaush, MN

Nett Lake, MN

North Branch, MN

Onigum, MN

Orr, MN

Palmquist, MN ¹

Pen, MN

Pike Sandy, MN

Pine Point, MN

Poneman, MN

Ponsford, MN

Princeton, MN

Ranier, MN

Red Lake, MN

Redby, MN

Remer, MN ¹

Rice Lake, MN

Rush City, MN

Sawyer, MN

Side Lake, MN

Squaw Lake, MN

Staples, MN

Talmoon, MN

Taylor Falls, MN

Tower, MN

Vermillion, MN

Vineland, MN

Virginia, MN

Walker, MN

White Earth, MN ¹

Whiteface Reservoir, MN

Zimmerman, MN

Mississippi

Betheden, MS ²

Bogue Chitto, MS ²

Bogure Chitto, MS ²

Clinton, MS ²

Conehatta, MS ¹

Conehatta, MS ²

Craig Springs, MS ²

Cybur, MS ²

French Camp, MS ²

Gautler, MS ²

Hanleyfield, MS ²

Industrial, MS ²

Kirkville, MS ²

Koscuisko, MS ²

Longview, MS ²

Natchez, MS ²

Natchez Trace R.S., MS ²

Nicholson, MS ²

Ocean Springs, MS ²

Oktoc, MS ²

Pecan, MS ²

Picayune, MS ²

Port Gibson, MS ²

Raymond, MS ²

Ridgeland, MS ²

Saltillo, MS ²

Singleton, MS ²

Standing Pine, MS ²

Standing Pine, MS ²

Starkville, MS ²

Tupelo, MS ²

Warren County, MS ²

Montana

Absarokee, MT

Alberton, MT ²

Alzada, MT

Amsterdam, MT

Anaconda, MT

Arlee, MT

Ashland, MT ²

Augusta, MT ²

Avon, MT

Babb, MT ²

Baker, MT

Belfry, MT

Belgrade, MT

Belt, MT

Big Arm, MT

Big Sandy, MT

Big Sky, MT ¹

Big Timber, MT

Bigfork, MT

Billings, MT

Birney, MT ²

Birney Divide, MT ²

Bonner, MT

Boulder, MT

Box Elder Crk to Smalls, MT

Box Elder Village, MT 1, 2

Bozeman, MT

Bridger, MT

Broadus, MT

Brockton, MT ²

Brockway, MT

Browning, MT

Busby, MT

Butte, MT ²

Camas Prairie, MT ¹

Camerson, MT

Canyon Creek, MT

Cardwell, MT

Cascade, MT

Charlo, MT

Chester, MT

Chinook, MT

Choteau, MT

Circle, MT

Clancy, MT

Clinton, MT

Clyde Park, MT

Colstrip, MT

Columbia Falls, MT

Columbus, MT

Condon, MT

Conner, MT

Conrad, MT

Cooke City, MT ¹

Coram, MT

Corvallis, MT

Crackerville, MT

Crane, MT

Crow Agency, MT 1, 2

Culbertson, MT

Custer, MT

Darby, MT

Dayton, MT

De Borgia, MT

Deer Lodge, MT

Dell, MT ¹

Denton, MT

Dillon, MT

Dixon, MT

Drummond, MT

Duck Creek Drainage, MT

Dutton, MT

East Glacier, MT ²

East Helena, MT

East Shore Flathead Lake, MT ¹

Edgar, MT

Ekalaka, MT

Elliston, MT

Emmigrant, MT

Ennis, MT

Essex, MT ²

Eureka, MT ¹

Evaro, MT

Fairfield, MT

Fairview, MT

Fallon, MT

Ferdig, MT

Fishtail, MT

Flaxville, MT

Florence, MT

Floweree, MT

Forsyth, MT

Fort Benton, MT

Fort Kipp, MT ¹

Fort Peck, MT

Fortine, MT ¹

Frazer, MT ²

Frenchtown, MT

Froid, MT

Fromberg, MT

Gallantin Gateway, MT ¹

Gardiner, MT

Garrison, MT

Garryownen, MT

Geraldine, MT

Geyser, MT

Glasgow, MT

Glendive, MT

Grass Range, MT

Great Falls, MT

Hall, MT

Hamilton, MT

Hardin, MT

Harlem, MT

Harlowton, MT

Havre, MT

Hays, MT ¹

Haystack Loop & Villages, MT

Heart Butte, MT ²

Helena, MT ¹

Highway 93 Corridor, MT ²

Hilger, MT

Hobson, MT

Hot Springs, MT ²

Hungry Horse, MT

Huntley, MT ¹

Huson, MT ¹

Hysham, MT

Ingomar, MT

Ismay, MT

Jackson, MT

Jefferson City, MT

Jocko River Corridor, MT

Joliet, MT

Joplin, MT

Jordan, MT

Judith Gap, MT ¹

Kalispell, MT

Kila, MT

Kiowa, MT ²

Lakeside, MT ¹

Lambert, MT

Lame Deer, MT ²

Laurel, MT

Lavina, MT

Lewistown, MT

Libby, MT ¹

Lima, MT

Lincoln, MT ¹

Little Badger, MT ²

Livingston, MT

Lodgegrass, MT 1, 2

Lodgepole, MT ¹

Lolo, MT

Loma, MT

Lustre, MT

Malta, MT

Manhattan, MT

Marion, MT

Martin City, MT

McAllister, MT

Mcleod, MT

Medicine Lake, MT

Melrose, MT

Miles City, MT

Milltown, MT

Missoula, MT ¹

Moore, MT

Mott, MT

Muddy Cluster, MT ²

Mussellshell, MT

Neilhart, MT

Noxon, MT

Nye, MT

Oilmont, MT

Olney, MT

Opheim, MT

Oswego, MT ²

Ovando, MT

Pablo, MT

Paradise, MT

Park City, MT

Parker Canyon, MT

Philipsburg, MT

Pinesdale, MT

Plains, MT

Plentywood, MT

Plevna, MT

Polaris, MT

Polebridge, MT ²

Polson, MT ²

Pony, MT

Poplar, MT ¹

Pray, MT

Proctor, MT

Pryor, MT 1, 2

Ransay, MT

Rapelje, MT

Ravalli, MT

Red Lodge, MT

Reed Point, MT

Rexford, MT ¹

Richey, MT

Roberts, MT

Rocky Boy Townsite, MT

Ronan, MT

Roundup, MT

Roy, MT

Ryegate, MT

Saco, MT

Saint Xavier, MT 1, 2

Saltese, MT

Sand Coulee, MT

Scobey, MT

Seeley Lake, MT ²

Shelby, MT

Shepherd, MT

Sheridan, MT

Sidney, MT

Simms, MT

Somers, MT ¹

St. Ignatius, MT

St. Mary, MT ²

St. Regis, MT

Stanford, MT

Stevensville, MT

Stryker, MT

Sula, MT

Sun River, MT

Sunburst, MT

Superior, MT

Sweetgrass, MT

Terry, MT

Thompson Falls, MT ²

Three Forks, MT

Townsend, MT

Trego, MT ²

Troy, MT

Twin Bridges, MT

Two Medicine, MT ²

Ulm, MT

Valier, MT

Vaughn, MT

Victor, MT

Vigrinia City, MT

West Glacier, MT ²

West Yellowstone, MT ¹

White Sulpher Springs, MT

Whitefish, MT

Whitehall, MT

Wibaux, MT

Wilsall, MT

Winifred, MT

Winnett, MT

Wisdom, MT

Wise River, MT

Wolf Creek, MT

Wolf Point, MT ²

Wyola, MT 1, 2

Yellow Bay, MT ¹

Zero, MT

Zortman, MT

North Carolina

Adams Creek, NC ²

Goose Creek, NC ²

Rough Branch, NC ²

Saunooke Heights, NC ²

Varner Estates, NC ²

North Dakota

4-Winds, ND ²

Belcourt, ND ¹

Bismarck, ND

Cannon Ball, ND ¹

Crow Hill, ND ²

Devils Lake Reservation, ND

Dickinson, ND

Dunseith, ND ¹

Fargo, ND

Fort Berthold Reservation, ND

Fort Yates, ND ¹

Fourt Bears, ND ¹

Fryburg, ND

Ft. totten, ND ²

Grassy Butte, ND

Jamestown, ND

Lake Metigoshe, ND

Lake Oahe shoreline, ND

Lake Sakakawea shoreline, ND

Lake Tschida shoreline, ND

Mandan, ND

Mandaree, ND ¹

Marmarth, ND

Medora, ND

Minot, ND

Porcupine, ND ¹

Spirit Lake Reservation, ND

St. John, ND ¹

St. Michael, ND ²

Standing Rock Reservation, ND

Stanton, ND

Takio, ND ²

Turtle Mountain Reservation, ND

Turtle Mountains, ND

Twin Butte, ND ¹

Valley City, ND

Watford City, ND

White Shield, ND ¹

Nebraska

Agate, NE

Alma, NE

Andrews, NE

Beatrice, NE

Belmont, NE

Bignell, NE

Blair, NE

Bodarc, NE

Bordeaux, NE

Burge, NE

Chadron, NE ²

Cody, NE

Conterra, NE ¹

Costin, NE

Crawford, NE

Desoto, NE

Doughboy, NE

Dunning, NE

Eldorado, NE

Ft. Calhoun, NE

Gering, NE

Glen, NE

Glenover, NE

Haig, NE

Halsey, NE ¹

Harrison, NE

Hoag, NE

Hubbard Corner, NE

James, NE

Joder, NE

Kennedy, NE

Kilgore, NE

Macy, NE ¹

Marsland, NE

McGrew, NE

Melbeta, NE

Mintle, NE

Montrose, NE

Mumper, NE

Naponee, NE

Nashville, NE

Natick, NE

Nenzel, NE

Niobrara, NE

Norden, NE

Orella, NE

Orleans, NE

Pine Ridge, NE

Ponca, NE

Rackett, NE

Republican City, NE

Riford, NE

Santee, NE ¹

Scottsbluff, NE

Simeon, NE

South Bayard, NE

Sparks, NE

Stockham, NE

Story, NE

Thatcher, NE

Thedford, NE

Thomas, NE

Tiny Town, NE

Valentine, NE

Verdel, NE

New Hampshire

Amherst, NH

Bartlett, NH

Bedford, NH

Campton, NH

Charlestown, NH

Chatham, NH

Conway, NH

Cornish, NH

Dunbarton, NH

Durham, NH

Francestown, NH

Goshen, NH

Grantham, NH

Greenland, NH

Hopkinton, NH

Jefferson, NH

Lincoln, NH

Lyndeborough, NH

Madison, NH

Milford, NH

New Boston, NH

Newington, NH

Newmarket, NH

Ossipee, NH

Plymouth, NH

Portsmouth, NH

Randolph, NH ²

Rumney, NH

Salisbury, NH

Sandwich, NH

Tamworth, NH

Thornton, NH

Unity, NH

Weare, NH

Webster, NH

Woodstock, NH

New Jersey

Barnegat, NJ

Bass River, NJ

Bernards, NJ

Bernardsville, NJ

Blairstown, NJ

Brick, NJ

Dennis, NJ

Dover, NJ

Freehold, NJ

Galloway, NJ

Hampton, NJ

Hardwick, NJ

Howell, NJ

Jackson, NJ

Jefferson, NJ

Knowlton, NJ

Lakehurst, NJ

Little Egg Harbor, NJ

Lower, NJ

Manchester, NJ

Marlboro, NJ

Middle, NJ

Montague, NJ

Pemberton, NJ

Plumstead, NJ

Port Republic City, NJ

Rockaway, NJ

Sandyston, NJ

Stafford, NJ

Stillwater, NJ

Tinton Falls, NJ

Upper, NJ

Vernon, NJ

Wall, NJ

Wantage, NJ

Washington, NJ

Woodbine, NJ

Woodland, NJ

New Mexico

Albuquerque, NM

Algodones, NM

Angel Fire, NM

Apache Summit, NM ²

Applewood Estates, NM ²

Bernalillo, NM ¹, ²

Black Lake, NM

Bosque Farms, NM

Budville, NM

Candy Kitchen, NM

Canon, NM

Capitan, NM ¹

Catron County Interface, NM ¹

Chama, NM

Cloudcroft, NM ¹

Cochiti Pueblo, NM ²

Corrales, NM ¹

Dixon, NM

Dulce, NM ²

East Mountains, NM

Escabosa, NM

Espanola, NM ²

Espanola Bosque, NM

Fort Wingate, NM

Gallinas Watershed, NM ¹

Hernandez, NM

Isleta Pueblo, NM ²

Jacona, NM

Jemez Pueblo, NM ¹

La Cueva, NM

La Ventanta, NM

Laguna, NM

Laguna Vista Estates, NM

Lakeview Pines, NM

Lincoln, NM ¹

Los Alamos, NM ¹, ²

Los Lunas, NM ²

Manzano Mountains, NM

Mayhill, NM

Mescalero, NM ¹

Middle Rio Grande

Bosque, NM

Mora County Interface, NM

Mount Taylor Game Ranch, NM ²

Nambe, NM

Ojo Caliente, NM

Paguate, NM ²

Palmer-Pena, NM ¹

Pecos, NM ²

Pena Blanca, NM

Penasco, NM

Pescado, NM

Picuris Pueblo, NM ¹

Pine Haven, NM ¹

Pine Hill, NM

Pojoaque, NM

Ponderosa, NM

Puye, NM

Ramah, NM

Red River, NM ¹

Ruidoso, NM ¹

Sal Ildefonso, NM

San Felipe Pueblo, NM

San Juan Pueblo, NM

San Ysidro, NM

Sandia Pueblo, NM

Santa Ana Pueblo, NM ¹, ²

Santa Clara, NM

Santa Fe Watershed, NM ¹

Santo Domingo Pueblo, NM

Shady Brook, NM

Silver City Area, NM ²

Tamaya, NM

Taos Canyon, NM

Taos Pueblo, NM ²

Tesuque Pueblo, NM

Three Rivers, NM

Timberon, NM ²

Toadlena, NM ²

Upper Brazos, NM

White Rock, NM

Zia Pueblo, NM

Zuni Pueblo, NM ¹

Nevada

Amargosa, NV

Austin, NV

Baker, NV ²

Battle Mountain, NV ²

Beatty, NV

Belmont, NV

Beowawe, NV

Blue Diamond, NV

Bodie Flats, NV

Boulder City, NV

Caliente, NV

Carlin, NV

Carson City, NV

Cherry Creek, NV

China Springs, NV

Churchill County, NV

Cold Springs, NV

Crescent Valley, NV

Currie, NV

Dayton, NV

Deeth, NV

Denio, NV

Eastern Washoe Valley, NV

Elko, NV

Ely, NV 1 2

Empire, NV

Fallon, NV

Fallon Naval Air Station, NV

Fernley, NV

Gabbs, NV

Galena, NV

Gardnerville, NV

Genoa, NV

Gerlach, NV

Golconda, NV

Gold Point, NV

Goldfield, NV

Goldhill, NV

Good Springs, NV

Grass Valley, NV ²

Hawthorne, NV

Henderson, NV

Holbrook Junction, NV

Humboldt, NV

Imlay, NV

Indian Springs, NV

Jackpot, NV

Jarbridge, NV

Jean, NV

Jiggs, NV

Kingston Canyon, NV

Lamoille, NV

Las Vegas, NV

Laughlin, NV

Lee, NV

Lee Canyon, NV ²

Leviathan, NV

Lining, NV

Lockwood, NV

Lovelock, NV

Lund, NV

Manhattan, NV

Mason Valley, NV

McDermitt, NV

McGill, NV

Midas, NV ²

Mill City, NV

Mina, NV

Minden, NV

Mountain City, NV

Mt. Charleston, NV

Nightingale, NV

Nixon, NV

North Las Vegas, NV

Oreana, NV

Orovada, NV

Owayee, NV

Pahrump, NV

Panaca, NV

Paradise Valley, NV ²

Pilot Peak, NV

Pioche, NV

Pleasant Valley, NV

Reno, NV ²

Rochester, NV

Round Mountain, NV

Ruby Valley, NV

Ruth, NV

Schurz, NV

Searchlight, NV

Silver City, NV

Silver Peak, NV

Silver Springs, NV

Six Mile Canyon, NV

Smith Valley, NV

South Lake Tahoe, NV

Sparks, NV

Sprong Creek, NV

Stagecoach, NV

Steamboat, NV

Tenabo, NV

Tonopah, NV

Topaz, NV

Tuscarora, NV ²

Unionville, NV

Valmy, NV

Virginia City, NV

Virginia City

Highlands, NV

Wadsworth, NV

Walker Lake, NV

Wells, NV

West Wendover, NV

Western Washoe Valley, NV

Whiterocks, NV ²

Winnemucca, NV

Yerington, NV

Yomba, NV

Oklahoma

Adair, OK

Atoka, OK

Beckham, OK

Blaine, OK

Bryan, OK

Caddo, OK

Canadian, OK

Carter, OK

Cherokee, OK

Choctaw, OK

Cleveland, OK

Comanche, OK

Creek, OK

Custer, OK

Delaware, OK

Garfield, OK

Garvin, OK

Grady, OK

Grayhorse Village, OK

Haskell, OK

Hughes, OK

Jackson, OK

Johnston, OK

Kay, OK

Kenwood, OK

Kingfisher, OK

Latimer, OK

LeFlore, OK

Lincoln, OK

Logan, OK

Love, OK

Marshall, OK

Mayes, OK

McClain, OK

McCurtain, OK

McIntosh, OK

Murray, OK

Muskogee, OK

Oklahoma, OK

Okmulgee, OK

Osage, OK

Ottawa, OK

Pawnee, OK

Payne, OK

Pittsburg, OK

Pontotoc, OK

Pottawatomie, OK

Pushmataha, OK

Rogers, OK

Seminole, OK

Sequoyah, OK

Stephens, OK

Tulsa, OK

Wagoner, OK

Washington, OK

Washita, OK

Woodward, OK

Oregon

Applegate, OR¹, ²

Ashland, OR ²

Bear Springs, OR

Bend, OR ¹

Black Butte Ranch, OR ¹

Cave Junction, OR

Cloverdale, OR

County Line, OR ¹, ²

I-84 Corridor, OR

Kah-Nee-Tah, OR

La Pine, OR ¹

Merlin, OR ¹

Murphy, OR ¹

Ruch, OR ¹

Sams Valley, OR

Shady Cove, OR

Sidwalter Flats, OR ¹, ²

Simnasho, OR

Sisters, OR ¹

Sun River, OR ¹

Warm Springs, OR ¹

Williams, OR

Pennsylvania

Delaware, PA ²

Dingman, PA ²

Lehman, PA ²

Middle Smithfield, PA ²

Milford, PA ²

Smithfield, PA ²

Narragansett, RI

South Carolina

Yesehena Village, SC

South Dakota

Allen, SD ¹

Bear Creek, SD ¹

Bear Soldier, SD ¹

Belle Fourche, SD

Big Bend, SD

Big Coulee, SD

Black Hawk, SD

Boulder Park, SD

Bridger, SD ²

Cascade Springs, SD

Central City, SD

Cherry Creek, SD ¹

Cheyenne Crossing, SD

Custer, SD

Deadwood, SD

Deerfield, SD

Dewey, SD

Doty, SD

Elmore, SD

Englewood, SD

Erskine, SD

Evergreen, SD ¹

Finley Heights, SD

Fort Thompson, SD ¹

Fox Ridge, SD ¹

Galena, SD

Georgetown, SD ¹

Grass Mountain, SD ²

Green Grass, SD ¹

Hayward, SD

Hill City, SD

Hisega, SD

Hot Springs, SD

Iron Lightning, SD ¹

Johnson Siding, SD

Kenel, SD ¹

Keystone, SD ²

Kyle, SD ¹

Lakeside, SD ¹

LaPlante, SD ¹

Lead, SD

Little Eagle, SD ¹

Long Hollow, SD

Lower Brule, SD ¹

Maitland, SD

Manderson, SD ¹

Marksville, SD ¹

Marty, SD

Maurice, SD

Minnekahta, SD

Nemo, SD

Number Six, SD ¹

Oglala, SD ¹

On The Tree, SD ²

Piedmont, SD

Pine Ridge, SD ¹

Pluma, SD

Porcupine, SD ¹

Potatoe Creek, SD ¹

Pringle, SD

Promise, SD ¹

Rapid City, SD

Red Iron, SD

Red Shirt, SD ¹

Ridgeview, SD

Rochford, SD

Rock Creek, SD ¹

Rockerville, SD

Rockyford, SD ¹

Rosebud, SD ²

Sanator, SD

Savoy, SD

Sharp's Corner, SD ¹

Silver City, SD

Soldier Creek, SD ²

Spearfish, SC

Spring Creek, SD ²

St. Francis, SD ²

Sturgis, SD

Swiftbird, SD ¹

Takini, SD ¹

Thunder Butte, SD ¹

Tilford, SD

Two Strike, SD ²

Wakpala, SD ¹

Wanblee, SD ¹

West Brule, SD ¹

Whitehorse, SD ¹

Whitewood, SD

Wolf Creek, SD ¹

Wounded Knee, SD ¹

Blackfoot, SD ¹

Parade, SD

Red Scaffold, SD ¹

Texas

Alabama Coushatta Reservation Housing, TX

Austin, TX

Bell, TX

Circle D, TX

Edwards, TX

Horizon, TX

Hutchison, TX

Lake Granbury, TX

Lake Whitney, TX

McKinney, TX

Mount Lakes, TX

Navarro, TX

Pine Forest, TX

Tahitian Village, TX

Westlake, TX

Wimberly, TX

Woodway, TX

Utah

Alpine Acres, UT ¹

Blanding, UT

Callao, UT

Canyon Meadows, UT

Canyon Terrace, UT

Castle Valley, UT

Causey Estates, UT

Cedar Fort, UT

Cedar High Lands, UT ²

Cedar Hill, UT

Cedar Hills, UT

Cedar Mountain, UT

Center Creek, UT

Centerville, UT

Central, UT

Chekshani, UT ¹

Chournos, UT

Cisco, UT

Clear Creek, UT

Cloud Rim, UT

Color Country, UT

Copperton, UT

Cougar Canyon, UT ¹

County Landfill, UT

Cove Fort, UT

Covered Bridge, UT

Cove-Richmond Bench, UT

Dameron Valley, UT

Daniels Summit, UT

Deep Creek, UT

Deer Crest, UT

Deer Valley, UT

Defas, UT

Derffie Creek, UT

Dewey, UT

Diamond Mountain, UT ²

Diamond Valley, UT

Dimple Dell, UT

Dixie Deer Estates, UT ²

Docs Beach, UT

Doug Thorley, UT

Draper, UT

Dry Fork, UT ²

Duck Creek, UT ¹

Eagle Estates, UT

Eagle Mountain, UT

Eagle Springs, UT

East Carbon, UT

Eastside of Sevier

Valley, UT ²

Elk Meadow, UT

Elk Ridge, UT

Emigration Canyon, UT

Enoch, UT

Ephraim Canyon Experiment Station, UT

Eskdale, UT

Eureka, UT ¹

Evergreen Estates, UT

Fairview Lakes, UT

Farmington, UT

Fishlake Area, UT

Flaming Gorge Acres, UT ¹

Flaming Gorge Pines, UT ¹

Forest Gardens, UT

Garden City/Bridgerland, UT

Garden City/Sweetwater, UT

Garden City/Elk Hollow, UT

Garden City/Little Switzerland, UT

Garden City/Swan Creek, UT

Garff Ranches, UT

Garrison, UT

Gold Hill, UT

Gooseberry, UT

Grafton, UT

Granite, UT

Grass Valley, UT

Green Hills, UT

Greenville, UT

Gunlock, UT

Hamilton Fort, UT

Hanksville, UT

Harmony Heights, UT

Haycock, UT

Herriman, UT

Hideaway Valley, UT

Highland, UT

Highland Estates, UT

High-Low, UT

Holiday, UT

Holiday Oaks, UT

Holiday Park, UT ¹

Ibapah, UT

Indian Creek, UT

Indian Ridge, UT ¹

Indianola, UT

Ireland Meadow, UT

Iron Town, UT

Jeremy Ranch, UT

Joes Valley, UT

Joes Valley (General Store), UT ²

Johnson Canyon, UT

Jordanelle, UT

Kanosh, UT

Kaysville, UT

Kelly Canyon, UT

Kenilworth, UT

Khoosharem Reservoir, UT ²

Kolob, UT

Lake Front, UT

Lake Point, UT

Laketown, UT

Lakeview, UT

Laplatta, UT

Layton, UT

LeBaron, UT

Leeds, UT

Lidias Canyon, UT

Lindon, UT

Little Cottonwood, UT

Little Ponderosa, UT

Little Reservoir, UT

Logan Canyon, UT

Long Flat, UT

Long Valley Estates, UT

Lund, UT

Mable Hills, UT

Mammoth, UT ¹

Mammoth Creek, UT ¹

Manderfield, UT

Manning Meadows, UT

Manorlands, UT

Manti Canyon, UT

Maple Hills, UT

Mapleton, UT

Meadow Lake, UT ¹

Meadow View, UT

MIA Shalom, UT

Milburn, UT

Mills Junction, UT

Mining area SW of Marysvale, UT

Mirror Lake, UT

Modena, UT

Monroe Meadows, UT

Morgan, UT

Motoqua, UT

Mountain Green, UT

Mountain Meadow, UT

Movie Ranch, UT

Mt. Tabby Springs, UT

Navajo Estates, UT

Neola/Whiterocks, UT

New Castle, UT

New Harmony, UT

North Creek, UT

North Fork, UT

North Ogden Bench, UT ¹

North Salt Lake, UT

North Valley, UT

Oak City, UT ²

Oak Creek, UT

Oaker Hills, UT

Ogden Canyon, UT

Olympus Cove, UT

Orem, UT

Pack Creek, UT

Palisade, UT

Panguitch Lake, UT ¹

Panorama Woods, UT

Park City/Deer Valley, UT

Paroganah, UT

Parowan, UT

Partoun, UT

Pin Willies, UT

Pine Canyon, UT

Pine Creek, UT

Pine Hollow, UT

Pine Meadows, UT

Pine Plateau, UT

Pine Valley, UT ¹

Pine View, UT

Pines Ranches/Pine Mt., UT

Pinto, UT

Pintura, UT

Plesant Grove, UT

Pleasant View, UT

Pole Patch, UT

Ponderosa Estates, UT

Ponderosa Villa, UT

Porterville, UT

Poverty Flat, UT ²

Provo, UT

Puffer Lake, UT

Quitchapah, UT

Rabbit Gulch, UT

Rainbow Meadow, UT

Red Hawk, UT

Reeders, UT

Reservation Ridge, UT

Reservoir Road, UT

River Forest, UT

Rockport Estates, UT

Rocky Ridge, UT

Rush Valley, UT

Salt Lake City, UT

Sandy, UT

Santaquin, Ut

Scare Canyon, UT

Schofield, UT

Schofield Reservoir, UT

Sheep Creek, UT

Silver Creek/Tollgate, UT

Silver Reef, UT

Silver Valley, UT

Skull Valley, UT

Sky Haven, UT

Skyline Mountain Resort, UT

Soldier Creek, UT

South Ogden Bench, UT

South Weber, UT

Spirit Lake Lodge, UT

Spring Canyon/Helper, UT

Spring City Ranchero, UT

Spring Glen, UT

Spring Mountain, UT

Springville, UT

Strawberry Valley, UT

Summit, UT

Summit Park/Pinebrook, UT

Sundance, UT ¹

Sunnyside, UT

Swains Creek, UT

Swiss Mountain, UT

Sylvin Canyon, UT

Taylor Flat, UT ²

Teasdale/Torrey, UT

Terra, UT ²

Third Mound, UT

Thompson, UT

Three Creek, UT

Timber Trails, UT

Tintic, UT ¹

Tommy Creek, UT

Tooele, UT

Trappers Loop, UT

Trout Creek, UT

Turkey Farm, UT ¹

Two Bears, UT

Uintah Bench, UT ¹

Uintah Canyon, UT

Uintalands, UT

Upton/Gas Plant, UT

Veyo, UT

Vista Grande, UT

WECCO, UT

West Water, UT ¹

Whispering Pines, UT

White Mesa, UT

Williams, UT

Willow Basin, UT

Winchester Hills, UT

Woodland Hills, UT

Woodruff, UT

Yellow Pine, UT

Zion View, UT

Virginia

3 Creek Knoll, VA

Advance Mills, VA

Albin Acres, VA

Apline Acres, VA

Alpine Farm, VA

AM Club, VA

Amhest Plantation, VA

Anna Coves, VA

Anna High View, VA

Antler Trail, VA

Apple Mountain Lake, VA

Arrowhead, VA

Ashby Run Estates, VA

Ashcroft, VA

Ashmere, VA

Aspen Hill, VA

Aspen Hill Farm, VA

Aubrey Lee Subdivision, VA

Auburn Hills, VA

Ballard Woods, VA

Baptist Dan, VA

Battle Creek Forest, VA

Beacon Hill, VA

Bear Castle, VA

Bear Creek, VA

Bear Hollow Ridge, VA

Beaver Creek, VA

Beechwood Estates, VA

Belarispring, VA

Bell Farm Estates, VA

Bien Venue, VA

Big Hill Estates, VA

Big Reed, VA

Big Run Estates, VA ²

Bishop Hill, VA

Black Walnut, VA

Blackwell, VA

Blandemar, VA

Blue Berry Hill, VA

Blue Mountain, VA

Blue Ridge, VA

Blue Ridge Acres, VA

Blue Ridge Forest, VA

Blue Ridge Shores, VA

Blue Springs Farm, VA

Blue Water, VA

Bonnie Brae, VA

Both Waters, VA

Brandy Run, VA

Brandywood Estates, VA

Breaks International Park, VA

Breamers Brook, VA

Brierwood Bluff, VA

Briery Branch, VA ²

Brocks Gap, VA

Broken Back, VA

Brookmill, VA

Brookshire, VA

Bryce Mountain, VA

Buck Hill, VA

Buck Mountain, VA

Bull Run Mountain, VA

Bull Yearling, VA

Calalpa, VA

Caldwell Lake, VA

Calf Mountain, VA

Calmes Neck, VA

Camp Friends, VA

Cardinal Forest, VA

Carefree Acres, VA

Carringan Property, VA

Cascade Mountain, VA

Castle Rock Mountain, VA

Cedar Creek Estates, VA

Cedar Grove, VA

Cedar Hill Estates, VA

Celestine Acre, VA

Centennial Heights, VA

Central Valley, VA

Chalet High, VA

Chatmoss, VA

Cherry Ridge, VA

Chest Mountain Estates, VA

Chesterfield

Subdivision, VA

Chestnut Creek, VA

Chestnut Grove, VA

Chestnut Manor, VA

Chestnut Park, VA

Chimney Hill, VA

Chinuapin Estates, VA

Clairmont Manor, VA

Clay Banks, VA

Claymont, VA

Clearfield Heights, VA

Cloud Land, VA

Cobble Mountain, VA

Coleman, VA

Collier Hill, VA

Collinsville Landing, VA

Contrary Creek, VA

Contrary Forest, VA

Cooks Creek, VA

Cornwall, VA

Countryside Estates, VA

County View, VA

Courtland, VA

Covington, VA

Crimora Mill, VA

Crystal Springs, VA

Daniel Mountain, VA

Dawn Heights, VA

Deer Lick Ridge, VA

Deer Rapids, VA

Deerhead, VA

Delawder, VA

Dogwood Mountain, VA

Dogwood Valley, VA

Draper Mountain, VA

Dry Run Acres, VA

Duck Run, VA

Duffield-Sunbranch, VA

Dunlop Farm, VA

Earlysville Forest, VA

Echo Hills, VA

Edgewood, VA

Elk Ridge, VA

Emerald Ridge, VA

Estates, VA

Fairgrove 1&2, VA

Farm Colony, VA

Faw/Boseley Lake, VA

Fingerlake Estates, VA

First Blue Ridge, VA

Fisher Tract, VA

Flacon Ridge, VA

Flat Top Mountain, VA ²

Forest Acres, VA

Forest Springs, VA

Forest View, VA

Fort Mason, VA

Fort Pasage, VA

Fortune Mountain, VA

Foster Falls Mill, VA

Fox Chase, VA

Fox Hollow, VA

Fox Run, VA

Foxcroft, VA

Foxwood, VA

Frazier Hill, VA

Fruland Orchard, VA

Furnace Mill, VA ²

Georgetown Lane, VA

Gilbert Heights, VA

Gladstone, VA

Glass II, VA

Glaydin Acres, VA

Glenmore, VA

Glenmore Heights, VA

Goose Creek, VA

Gore Subdivision, VA

Graham Subdivision, VA

Granch Acres, VA

Grants Hollow, VA

Green Hill Forest, VA

Green Hill Heights, VA

Green Hill Terrace, VA

Green Mountain, VA

Green Mountain Acres, VA

Greene Land, VA

Greene Valley, VA

Greene Valley, VA

Greenwood Farm, VA

Griffinsburg, VA

Haley, VA

Hardwick Mountain, VA

Harper Valley, VA

Hazel River Estates, VA

Henly Mountain, VA

Henry Hill, VA

Hensley Hollow, VA

Herdman Hill, VA

Hickory Hills, VA

Hickory Ridge, VA

Hidden Pass, VA

Hidden Valley, VA

Hideaway Hills, VA

Hideway Lake, VA

High Knob, VA

High View Manor, VA

High View Woods, VA

Highland Estates, VA

Highland Lake, VA

Highland Park, VA

Hightop Mountain, VA

Highview, VA

Hill Top, VA

Hillendale, VA

Hillwood Estates, VA

Hinson's Ford, VA

Holbrook, VA

Holmes Run, VA

Hone Quarry, VA

Hoover, VA

Hoover Mountain, VA

Huckelberry Mountain, VA

Hunters Lake, VA

Hunters Valley, VA

Hunting Hill, VA

Huntington, VA

Irisburg Heights, VA

Ivy Creek, VA

Jackson Woods, VA

Jarman Gap Estates, VA

Jefferson Hunting Trail, VA

Kawana Valley, VA

Kire, VA

Knolls, VA

La-Go-Ha, VA

Lake Country, VA

Lake Holiday, VA

Lake Isaac, VA

Lake Monticello, VA

Lake Saint Claire, VA

Lake Serene, VA

Lakeridge, VA

Lakewood, VA

Lamma, VA

Laney Cemetary, VA

Laurel Mountain, VA

Laurel Ridge, VA

Laurel Wood, VA

Lawson Estates, VA

Layside Estates, VA

LeBaron Estates, VA

LeeHigh, VA

Leeland Heights, VA

Liberty Hill, VA

Lincoln Estates, VA

Little Gun Mountain, VA

Little North Mountain, VA

Loch Linden, VA

Locust Hill, VA

Lodebar, VA

Log Cabin Estates, VA

Lookout, VA

Lookout Mountain Community, VA

Loren's Camp, VA

Lost Valley, VA

Loudon Valley, VA

LOW, VA

Lowry Lest, VA

Manvel Subdivision, VA

Massanulten Forest, VA

Massanutten, VA

Matney Flats, VA

McGuire Hills, VA

Meadowfield, VA

Meadowlands, VA

Meadowview, VA

Melory Lake, VA

Merrimac South, VA

Merry Meadow, VA

Middle River, VA

Middlebranch, VA

Midlick, VA

Milford Height, VA

Mill Creek, VA

Millon Heights, VA

Milton Hills, VA

Mocassin Gap, VA

Monkey Run, VA

Moonshine Mountain, VA

Mount Gile, VA

Mount Joy, VA

Mount Pleasant, VA

Mount Wea, VA

Mountain Falls Park, VA

Mountain Hollow, VA

Mountain Run, VA

Mountain Run Lake, VA

Mountain Terrace, VA

Mountain View, VA

Mountain View Estates, VA

Mountain View Park, VA

Musterfield Road, VA

Normandy, VA

North Deans, VA

North Fork Farms, VA

North Mountain Properties, VA

North Ridge, VA

North White Oak, VA

Oak Manor, VA

Oakridge, VA

Oakwood Estates, VA

Oakwood Lake, VA

Outback, VA

Overlook, VA

Overlook Mountain, VA

Page Valley Estates, VA

Paige, VA

Pamunkey Creek, VA

Paradise Haven, VA

Paris Heights, VA

Park View Acres, VA

Partridge Run, VA

Patterson Road, VA

Peacock Hill, VA

Pinecrest, VA

Pleasant Valley, VA

Point O'Wood, VA

Pond Mountain, VA

Potts Mountain, VA

Powell Mountain, VA

Preston Gap, VA

Quail Ridge, VA

Quality Row, VA

R. Durham, VA

Rag Mountain, VA

Randle Ridge, VA

Rappahannoc, VA

Rawley Spring, VA

Rebel Acres, VA

Red Bud, VA

Red Hills, VA

Redfields, VA

Reynards Crossing, VA

Richardville South, VA

Ridgecrest Heights, VA

Riggory Ridge, VA

Rillhurst I&II, VA

Ritter Mountain Subdivision, VA

Riverbend Estates, VA

Riverdale, VA

Rock Branch, VA

Rock Mills, VA

Rolling Hills, VA

Roundhead Mountain, VA

Route 6 Cohasselo, VA

Route 637, VA

Route 644, VA

Route 651, VA

Route 655, VA

Route 676, VA

Route 683, VA

Running Deer, VA

Saddle Run, VA

Saddlebrook, VA

Saddlewood Forest, VA

Sand Mountain Estates, VA

Sandy Brook Reserve, VA

Sanford Tract, VA

Sanville Estates, VA

Scenic Green, VA

Seigen Forest, VA

Senger Mountain, VA

Seven Fountain, VA

Seven Springs, VA

Sexton Hills, VA

Shadwell Estates, VA

Shady Forest, VA

Shadybrook, VA

Shawneeland, VA

Shenandoah Farm, VA

Shenandoah Farms, VA

Shenandoah Forest, VA

Shenandoah Gap, VA

Shenandoah Highlands, VA

Shenandoah Retreat, VA

Shenandoah Shores, VA

Sherwood Forest, VA

Shipwreck Farm, VA

Signal Hill, VA

Sile Heights, VA

Singer Tree Hill, VA

Ski & Hunt, VA

Skyland Estates, VA

Skyline Crest, VA

Skyline Lakes, VA ²

Skyline Orchard, VA

Skyview & Brook, VA

Slate Hill, VA

Slate Mountain, VA

Sleepy Hollow, VA

South Keswick, VA

South River Estates, VA

South Wales, VA

South White Oak, VA

Sparkling Spring, VA

Spoon Creek, VA

Spotswood Farm, VA

Spradlin Properties, VA

Spring Valley, VA

Stage Coach, VA

Stoney Fork Ranch, VA

Stoney Mountain, VA

Stony Point, VA

Stony Point Hills, VA

Stratford, VA

Stroupe Mountain, VA

Summer Place, VA

Sundance, VA

Sundance Creek, VA

Sundance Mountain, VA

Sundance Retreat, VA

Sundance West, VA

Sunny Ridge, VA

Sunset Ridge, VA

Sunvalley (lower), VA

Sunvalley (upper), VA ²

Supin Lick, VA

Surreyfield, VA

Swan Ridge Estates, VA

Swan Woods, VA

Swift Run Estates, VA

Swift Run Haven, VA

Tall Pines, VA

Tannery Hills, VA

Tara Woods, VA

Taylors Gap, VA

Taylors Mountain Farm, VA

The Homestead, VA

The Ledges, VA

Thompson Hollow, VA

Thunder Oak, VA

Thunderbird Farm, VA

Thunderbird Ridge, VA

Thurston, VA

Tillman, VA

Timber Ridge Forest, VA

Timber Ridge Springs, VA

Timberlain, VA

Tobacco Row, VA

Totier Hills, VA

Trails End, VA

Turner Run, VA

Twin Coves, VA

Twin Falls Subdivision, VA

Twin Run Estates, VA

Vallee Viedeo, VA

Valley Estates, VA

Vance Subdivision, VA

Vias Estates, VA

Village of Springfield, VA

Village Square, VA

Virginia Farms, VA

Walnut Hills, VA

Walnut Hills Estates, VA

Walnut Mountains, VA

Walnut Run, VA

Waterford Subdivision, VA

Waterloo Woods, VA

Watts Station, VA

Wavertree Hollow, VA

WDS Landing, VA

Weatherwood, VA

Weber City, VA

Weslern Ridge, VA

Wesley Chapel, VA

West, VA

West Brice, VA

West Calvert, VA

West Lakes, VA

Westwood Acres, VA

Wexford, VA

Whip Por Ridge, VA

Whipporwill Hollow, VA

White Oak, VA

Whiteland, VA

Whitestone Estates, VA

Wilchpole Mountain, VA

Wilderness Park, VA

Wilderness Shores, VA

Wildwood, VA

Wildwood Forest, VA

Windrift, VA

Windy Gap, VA

Winnbrook, VA

Winter Hill, VA

Wintergreen, VA

Winterwood, VA

Wolf Lots, VA

Wolftrap Woods, VA

Woodcreek, VA

Woodcrust, VA

Woodlands Subdivision, VA

Woodlawn, VA

Woods Lodge, VA

Woodshire, VA

Woody Court, VA

Yates, VA

Yearwood, VA

Vermont

Bristol, VT

Dorset, VT

Dover, VT

Granville, VT

Jamaica, VT

Lincoln, VT

Mendon, VT

Mount Tabor, VT

Ripton, VT

Somerset, VT

Stockbridge, VT

Sunderland, VT

Wardsboro, VT

Warren, VT

Wilmington, VT

Windall, VT

Washington

9-Mile Rogers Bar, WA

Acme, WA

Addy, WA

Allyn, WA

Amboy, WA

Ariel, WA

Arlington, WA

Ashford, WA

Bainbridge Island, WA

Baring, WA

Battle Ground, WA

Belfair, WA

Bellingham, WA

Bickleton, WA

Bingen, WA

Boyds, WA

Bremerton, WA

Brewster, WA

Brinnon, WA

Brush Prairie, WA

Burlington, WA

Camas, WA

Cameron Lake, WA

Carlton, WA

Carnation, WA

Carson, WA

Cashmere, WA

Castle Rock, WA

Cathlamet, WA

Centerville, WA

Chattaroy, WA

Cheney, WA

Chewelah, WA

Clayton, WA

Cle Elum, WA

Colbert, WA

Colville, WA ¹

Cowiche, WA

Curlew, WA

Cusick, WA

Dayton, WA ¹

Deer Park, WA

Deming, WA

Desautel, WA

East Wenatchee, WA

Eatonville, WA

Elbe, WA

Elk, WA

Ellensburg, WA

Elma, WA

Entiat, WA ¹

Enumclaw, WA

Etueville, WA\2\

Evans, WA

Fairchild Air Force Base, WA

Fall City, WA

Ford, WA

Ford Cluster, WA ²

Fort Simcoe Job Corp. Ctr., WA ²

Friday Harbor, WA

Fruitland, WA

Georgeville, WA ²

Gifford, WA

Goldendale, WA

Granite Falls, WA

Grapeview, WA

Greenacres, WA

Hansville, WA

Highway 21 Corridor, WA

Highway 97 Corridor, WA

Hoodsport, WA

Hunters, WA

Ilwaco, WA

Inchelium Rural, WA

Inchelium Urban, WA ²

Issaquah, WA

Kalama, WA

Keller, WA

Kelso, WA

Kettle Falls, WA

Kingston, WA

Klickitat, WA

Lake Roosevelt Corridor, WA

Leavenworth, WA ¹

Liberty Lake, WA ²

Lilliwaup, WA

Long Beach, WA

Long Island, WA

Longview, WA

Loomis, WA

Loon Lake, WA

Lyle, WA

Malaga, WA

Malo, WA

Manson, WA ¹

Marblemount, WA ¹

Matlock, WA

Mazama, WA

Mead, WA

Medical Lake, WA

Methow, WA

Mica, WA

Monroe, WA

Moses Meadows, WA

Mossyrock, WA

Naches, WA

Naselle, WA

Nespelem, WA ²

Newman Lake, WA

Newport, WA

Nine Mile Falls, WA ¹

North Ahtanum, WA ²

North Bend, WA

Ocean Park, WA

Okanogan Chelan, WA

Olalla, WA

Olga, WA

Olympia, WA

Omak, WA

Omak Rural, WA

Omak Urban, WA

Oroville, WA

Otis Orchards, WA

Packwood, WA

Pateros, WA ¹

Peshastin, WA ¹

Pomeroy, WA

Port Angeles, WA

Port Hadlock, WA

Port Orchard, WA

Port Townsend, WA

Poulsbo, WA

Quilcene, WA

Randle, WA

Ravensdale, WA

Reardan, WA

Republic, WA ¹

Reservation Road, WA 1, 2

Rice, WA

Ridgefield, WA

Riverside, WA

Rockford, WA

Roosevelt, WA

Roy, WA

Seabeck, WA

Selah, WA

Sequim, WA

Shelton, WA

Silverdale, WA

Silverlake, WA

Skykomish, WA

Snoqualmie, WA

Spangle, WA

Spokane, WA ¹

Springdale, WA

Stehekin, WA 1, 2

Stevenson, WA

Sultan, WA

Suquamish, WA

Tahuya, WA

Thorp, WA

Tieton, WA

Tonasket, WA

Toutle, WA

Tumtum, WA

Twin Lakes, WA

Twisp, WA ¹

Underwood, WA

Union, WA

Usk, WA

Valley, WA

Valleyford, WA

Vancouver, WA

Veradale, WA

Waitsburg, WA

Washougal, WA

Wauconda, WA

Wellpinit, WA ²

Wenatchee, WA 1, 2

White Salmon, WA

Winthrop, WA ¹

Woodland, WA

Yacolt, WA

Yakima, WA

Yelm, WA

Wisconsin

Alvin, WI

Argonne, WI

Armstrong Creek, WI

Babcook, WI

Barnes, WI

Birch Hill, WI

Blackwell, WI

Blue Wing, WI

Bowler, WI

Camp Douglas, WI

Carter, WI

Clam Lake, WI

Clear Lake, WI

Clearwater Lake, WI

Conover, WI

Crooked Lake, WI

Dairyland, WI

Danbury, WI

Drummond, WI

Dry Town, WI

Eagle River, WI

Fence Lake, WI

Finley, WI

Fort McCoy, WI

Franks Field, WI

Gordon, WI

Grand View, WI

Hayward, WI

Hiles, WI

Horizon, WI

Iron River, WI

Kekoskee, WI

Keshena, WI ¹

Keshena, WI

Lac du Flambeau, WI

LacCourte Oreilles Tribal Center, WI

Lacdu, WI

Lakewood, WI

Langlade, WI

Laona, WI

Long Lake, WI

Meadow Valley, WI

Middle Village, WI ¹

Minocqua, WI

Mission, WI

Morgan, WI

Mountain, WI

Necedah, WI

Nelma, WI

Neopit, WI

Newald, WI

Oakedale, WI

Phelps, WI

Reserve, WI

Riverside, WI

Sand Pillow, WI

South Branch, WI ¹

Sprague, WI

Three Lakes, WI

Tipper, WI

Townsend, WI

Valley Junction, WI

Wabeno, WI

West Branch, WI

Woodruff, WI

West Virginia

Alpena, WV

Alvon, WV

Amboy, WV

Anthony, WV

Arbovale, WV

Arden, WV

Aurora, WV

Auto, WV

Baker, WV

Bakerton, WV

Ballard, WV

Bartow, WV

Beckwith, WV

Bemis, WV

Bismark, WV

Blue Bend, WV

Bolair, WV

Bolivar, WV

Bowen, WV

Boyer, WV

Branchland, WV

Brandywine, WV

Cabins, WV

Camben on Gauley, WV

Canvas, WV

Cass, WV

Cedar Grove, WV

Cheat Bridge, WV

Cherry Grove, WV

Circleville, WV

Clarksburg, WV

Clear Fork, WV

Clearco, WV

Cloverlick, WV

Coketon, WV

Craigsville, WV

Cunard, WV

Curtin, WV

Cyrus, WV

Dailey, WV

Davis, WV

Deep Water, WV

Denmar, WV

Dorcas, WV

Droop, WV

Dunlow, WV

Dunmore, WV

Durbin, WV

East Bank, WV

East Lynn, WV

Edray, WV

Eglon, WV

Eleanor, WV

Elgood, WV

Elkins, WV

Elkwater, WV

Elliton, WV

Erwin, WV

Etam, WV

Fayetteville, WV

Fenwick, WV

Flemington, WV

Frank, WV

Franklin, WV

Friars, WV

Frost, WV

Ft. Gay, WV

Ft. Seybert, WV

Galloway, WV

Gassaway, WV

Gauley Bridge, WV

Genoa, WV

Gilbert, WV

Glady, WV

Glasgow, WV

Glen Ferris, WV

Gormania, WV

Grafton, WV

Green Bank, WV

Hambleton, WV

Handley, WV

Harman, WV

Harpers Ferry, WV

Hendricks, WV

Henry Hill, WV

Hillsboro, WV

Hunterville, WV

Huttonsville, WV

Jerryville, WV

Job, WV

Jordan Run, WV

Judy Gap, WV

Justice, WV

Keslers Cross Lane, WV

Kiahsville, WV

Kline, WV

Landes Sutton, WV

Lavalette, WV

Leivasy, WV

Lerona, WV

Lobelia, WV

London, WV

Lost City, WV

Lost River, WV

Mace, WV

Macomber, WV

Mammoth, WV

Marlinton, WV

Mathias, WV

Maxwelton, WV

Melissa, WV

Mill Creek, WV

Mill Point, WV

Mingo, WV

Minnehaha Springs, WV

Monterville, WV

Montrose, WV

Moyers, WV

Mt. Nebo, WV

Neola, WV

Nettie, WV

Nutter Fort, WV

Oak Flat, WV

Onego, WV

Parsons Robson, WV

Perry, WV

Petersburg, WV

Pierce, WV

Pipestem, WV

Pratt, WV

Radnor, WV

Ranger, WV

Red Creek, WV

Red House, WV

Renick, WV

Richwood, WV

Riverton, WV

Salt Rock, WV

Scherr, WV

Seebert, WV

Seneca Rocks, WV

Sheperdstown, WV

Silver Lake, WV

Simpson, WV

Slatyfork, WV

Snowshoe, WV

Spring Creek, WV

St. George, WV

Stonewood, WV

Sugar Grove, WV

Sully, WV

Summersville, WV

Thomas, WV

Thornwood, WV

Thurmond, WV

Upper Tract, WV

Valley Bend, WV

Valley Head, WV

Waiteville, WV

Ward, WV

Wardensville, WV

White Sulpher Springs, WV

Whitmer, WV

Wilson, WV

Winfield, WV

Wolf Summit, WV

Wymer, WV

Wyoming

Albany, WY

Alpine, WY

Alta, WY

Antelope Butte Ski Lodge, WY

Aspen Highlands

Estates, WY

Atlantic City, WY

Backcountry, WY

Baker Canyon, WY

Battle Lake

Subdivision, WY ¹

Beaver Creek, WY ²

Beaver Creek, Area, WY

Big Block cabins, WY

Big Goose Creek, WY

Big Goose Creek, Work Center, WY

Bighorn Sum. Homes, WY

Billy Creek, WY

Billy Creek homes & cabins, WY

Black Buttes, WY

Bondurant, WY

Boulder Ridge Estates, WY

Breakneck, WY

Buckhorn, WY

Burgess Junction Lodge, WY ¹

Burgess Work Center, WY ¹

Camp Grace, WY

Canyon Creek Cabins #1, WY

Canyon Creek Cabins #2, WY

Canyon Creek County, WY ¹

Canyon Junction, WY

Casper Mountain, WY

Cedar Mountain, WY

Centennial, WY ¹

Clear Creek, WY

Colter Bay, WY ²

Community, WY

Cottonwood Acres, WY ¹

Crandall, WY

Crooked Creek, WY ¹

Crystal Lake, WY

Curt Gowdy, WY

Dayton, WY

Deer Haven, WY

Devils Tower, WY

Devils Tower Visitor Center, WY

Dome Lake, WY

Dull Knife Reservoir, WY

East of Hunter Hwy 16, WY

East Upton, WY

Elk Ridge Estates, WY

Esterbrook, WY ¹

Ethete, WY

Ferguson Canyon, WY

Fontenelle, WY

Fort Washakie, WY

Fox Park, WY ¹

Freedom, WY

French Creek, WY

Glendo State Park, WY

Granite Springs, WY

Grave Springs, WY

Green Creek Subdivision, WY

Greybull River, WY

Guernsey State Park, WY

Harriman, WY

Hazelton, WY

Hazelton Area (East), WY

Hoback Ranches, WY

Homestead Park Subdivision, WY ¹

Hulett, WY

Hyatt Ranch Area, WY

Indian Hills, WY

Jackson, WY ²

Jackson Lake Lodge, WY

JY Ranch, WY ²

Keyhole, WY

Keystone, WY

Kortes Dam Camp, WY

Limestone Mountain Area, WY

Little Big Horn Cabins, WY

Loop Road, WY

Mammoth, WY

Meadowlark, WY

Meadowlark Lake Complex, WY

Middle Fork Powder River, WY

Moose Haven Subdivision, WY

Mountain Home, WY

New Haven, WY

Newcastle, WY

North Blacktail, WY

North Fork Shoshone River, WY

Old Faithful, WY

Osage, WY ¹

Overlook Retreats, WY

Painter Estates, WY

Paradise Guest Ranch, WY

Park County, WY

Pine Bluffs, WY

Pine Creek Area on South Pass, WY

Pine Grove Estates, WY

Pomeroy Subdivision, WY

Porcupine Ranger Station & Cabins WY

Porcupine Shell Work Center, WY ¹

Porcupine Subdivision, WY

Rattlesnake, WY

Remount, WY

Resorts, WY

Rice Subdivision, WY ¹

Rinkerlank Forest Subdivision, WY

Round Hill Ranch, WY

Ryan Park, WY ¹

Sage Valley, WY

Sage Valley Subdivision, WY

Sand Creek, WY

Seminoe Reservoir Area, WY

Shadow Mountain, WY 1, 2

Shell Ranger Station & Cabins, WY ¹

Signal Mountain, WY ¹, ²

Sinks Canyon, WY

Soda Butte, WY

South Fork Shoshone River, WY

South Pass City, WY

Star Valley, WY

Story, WY

Sundance, WY

Sunlight, WY

Sweetwater, WY

Tensleep-Special Use Area, WY

Tongue River, WY

Tyrell Work Center & Cabins, WY ²

Union Pass Area, WY

Upper Wood River, WY

Upton, WY ¹

Urban Thermopolis, WY

Wapiti Subdivision, WY ¹

Warm Springs, WY

Warm Springs Mountain, WY

Waywest Subdivision, WY

West Thumb, WY

White Rock Estates, WY

Wigwam, WY

Wind River, WY

Wold Subdivision, WY

Wood River, WY ¹

Woodedge, WY

[FR Doc. 01-52 Filed 1-3-01; 8:45 am]

BILLING CODE 3410-11-M; 4310-70-M